DEPARTMENT OF HOMELAND SECURITY

Federal Emergency Management Agency

44 CFR Chapter I

[Docket ID FEMA-2008-0013]

RIN-1660-AA57

Technical, Organizational and Conforming Amendments; Title 44 CFR Chapter I

AGENCY: Federal Emergency Management Agency, DHS.

ACTION: Final rule.

SUMMARY: By this final rule, the Federal Emergency Management Agency (FEMA) is making editorial and technical changes throughout chapter I of title 44 of the Code of Federal Regulations (CFR) to reflect the current organization and procedures of the agency. This rule updates organization names, removes the internal delegations of authority from part 2, and makes conforming amendments and technical corrections, and will have no substantive effect on the regulated public.

DATES: This final rule is effective April 3, 2009.

ADDRESSES: A copy of this rule is available electronically on the Federal eRulemaking Portal at www.regulations.gov. To the far right of that page is a section titled “More Search Options.” Below that title, click on “Advanced Docket Search.” On the next screen, in the box provided for Docket ID, type “FEMA-2008-0013”. The next screen will provide a link to the docket. Once viewing the docket, all documents are provided in chronological order. The rule is also available for inspection at the Office of Chief Counsel, Federal Emergency Management Agency, Room 835, 500 C Street, SW., Washington, DC 20472.

FOR FURTHER INFORMATION CONTACT: Erin McMunigal, Assistant Chief Counsel for Regulation and Policy, Federal Emergency Management Agency, 500 C Street, SW., Washington DC 20472, (phone) (202) 646-4097, (facsimile) (202) 646-4596, or (e-mail) Erin.McMunigal@dhs.gov.

SUPPLEMENTARY INFORMATION:

Regulatory Information

The Federal Emergency Management Agency did not publish a notice of proposed rulemaking (NPRM) for this regulation. Under both 5 U.S.C. 553(b)(A) and (b)(B), FEMA finds that this rule is exempt from notice and comment rulemaking requirements because its substance updates FEMA's regulations to conform to changes in FEMA's organization and practices. All of the changes in this rule are non-substantive. This rule consists only of corrections and editorial, organizational, and conforming amendments. These changes will have no substantive effect on the public; therefore, it is unnecessary to publish an NPRM. Under 5 U.S.C. 553(d)(3), FEMA finds that, for the same reasons, good cause exists for making this rule effective less than 30 days after publication in the Federal Register.

Discussion of the Rule

In 1979, by Executive Order 12127, President Carter created FEMA as an independent executive branch agency, and FEMA began issuing regulations in title 44 CFR, chapter I. Since then, the agency has undergone several reorganizations, both absorbed and shed responsibilities, and in 2003 became part of the Department of Homeland Security (DHS). Most recently, Congress passed, and the President signed into law, the Post-Katrina Emergency Management Reform Act of 2006 (Pub. L. 109-295), which on March 31, 2007, made many organizational changes to FEMA, including renaming the Director as an Administrator. Due to these many changes to its organization and structure throughout the years, many of FEMA's regulations do not reflect its current organization, nomenclature, procedures, and practices.

This rule corrects organization names and addresses, updates Information Collection Approval Numbers issued by the Office of Management and Budget (OMB), removes the text of an Executive Order that has been repealed, and makes other technical and editorial corrections throughout title 44. This rule does not change the substantive requirements of existing regulations. In the following paragraphs, FEMA describes revisions that are not self-explanatory. Self explanatory revisions include name, address, or spelling corrections, gender-neutral changes, or updates to references/cites.

Title Changes

FEMA has undergone a number of transitions, the largest of which was the Agency's move into DHS in March 2003. Although continuing to work under the FEMA name, the Homeland Security Act of 2002 (Pub. L. 107-296, § 503, 116 Stat. 2135, 2213 (2002)) transferred FEMA's functions to DHS's Directorate of Emergency Preparedness and Response.

Recently, the Post-Katrina Emergency Management Reform Act (PKEMRA) (Pub. L. 109-295, 120 Stat. 1355, (2006)) amended the Homeland Security Act of 2002 and reinforced critical elements of FEMA's emergency response capabilities. In part, PKEMRA removed FEMA from DHS's Emergency Preparedness and Response Directorate, and established it as a stand-alone, directorate-level component of DHS. PKEMRA also shifted many of the responsibilities of the DHS Preparedness Directorate into the new FEMA. FEMA now manages the United States Fire Administration, the Chemical Stockpile Emergency Preparedness program, the Radiological Emergency Preparedness program, the Office of National Capital Region Coordination, and the functions of what was formerly DHS' Office of Grants and Training. Finally, FEMA is now headed by an Administrator, who “is the principal advisor to the President, the Homeland Security Council, and the Secretary for all matters relating to emergency management in the United States.” (Pub. L. 109-295, § 611, 120 Stat. 1355, 1397 (2006)).

During the transitions described above, certain of FEMA's directorates were reorganized to comport with the overall structure of DHS, and to better serve the missions of both FEMA and DHS. As a result, some components and their subdivisions have been renamed. For example, the functions that were once performed by the Response and Recovery Directorate have been split amongst three new directorates, the Disaster Assistance Directorate, Disaster Operations Directorate, and the Logistics Management Directorate. The Response and Recovery Directorate no longer exists. Where the names of offices or directorates appear in the text of Title 44, they have been corrected to reflect designations current as of the date of this publication.

In addition, modifications have been made to FEMA leadership titles and roles. Where these terms appear in the text of Title 44, they have been corrected to reflect the proper terms that are now in use. For example, the former title of FEMA's “Director” has been replaced with the new title of “Administrator”.

Update to Part 2 Subpart A, “Organizations, Functions, and Delegations of Authority”

FEMA's organizational structure and delegations of authority are not appropriate for the Code of Federal Regulations, and are not required to be published in the Federal Register. Pursuant to the Federal Register Act (44 U.S.C. 1505), only Presidential proclamations, Executive Orders, and those documents or classes of documents that either the President has determined to have general applicability and legal effect or by Act of Congress are required to be published in the Federal Register. FEMA has determined that it is in the interest of both the agency and the public to remove descriptions of its organization and functions from the regulations. This information, along with biographical information on FEMA's leadership, the agency's mission, office locations, and other useful organizational information, is available on the “About Us” link from FEMA's Web site at www.fema.gov. By issuing changes via its website, FEMA can more quickly and easily communicate to the public any changes made to its structure, either by legislation or internal procedural reforms.

Update to Part 2 Subpart B, “OMB Collection Numbers”

As part of the overall revision to title 44, FEMA is revising § 2.81 to reflect new or revised OMB control numbers assigned to FEMA's information collection requirements. As required by the Paperwork Reduction Act, qualifying requests for information from the public must be approved by OMB, and are not enforceable until the agency possesses an OMB control number. Information on all currently approved information collections is available online at http://www.reginfo.gov/public/do/PRAMain. Although FEMA has maintained current OMB approvals, all of FEMA's OMB control numbers were transferred from the 3067 series to 1660 when FEMA became a part of DHS.

Update to Part 5

FEMA is updating part 5, “Production or Disclosure of Information.” Section 5.26, “Rules for public inspection and copying,” provides the addresses where members of the public may contact FEMA Headquarters or its Regional Offices, to find materials available for public inspection and copying. These materials are required to be available by 5 U.S.C. 552(a), and include final opinions and orders made in the adjudication of cases; statements of policy and interpretation that have been adopted by FEMA and are not published in the Federal Register; and administrative staff manuals and instructions to staff that affect a member of the public, unless such materials are promptly published and copies offered for sale. This change will correct the addresses that are provided for regional offices.

FEMA is also correcting the address in § 5.41, “FEMA publications.” This section provides the address from which members of the public may request FEMA publications. In addition, many FEMA publications and documents may be found on FEMA's Web site at www.fema.gov, which contains a Freedom of Information Act (FOIA) reading room as well as a library of policies, forms, brochures, and other useful information.

Update to Section 9.18

In § 9.18, we removed paragraphs (b)(2) and (3). These paragraphs reflected modifications that the Heads of FEMA Offices, Directorates, and Administrations were required to make to their procedures within 90 days of the date the regulation went into effect. The regulation went into effect in September 1980 and was amended in August 1984. Since the requirement expired over 20 years ago, it has been removed.

Update to Part 13

FEMA is updating part 13, Uniform Administrative Requirements for Grants and Cooperative Agreements to State and Local Governments.” In particular, FEMA is updating § 13.26(a), “Non-Federal audit,” to amend the list of authorities under which grantees and subgrantees are responsible for obtaining audits. The additional authorities are 31 U.S.C. 503, 1111; Executive Order 8248; and Executive Order 11541. This is not a substantive change, and is merely provided to assist grantees and subgrantees in locating other sources of audit requirements.

In § 13.26(b), FEMA is revising the threshold grant amount above which State or local governments must meet the audit requirements. The current regulations set the amount at “$300,000 or more (or other amount as specified by OMB)”. On June 27, 2003, OMB Circular A-133, Subpart D, section 400(d)(4) revised this amount to $500,000 for fiscal years ending after December 31, 2003. Since the regulations said “or other amount as specified by OMB”, this is not a substantive change, but updates the stated threshold amount to reflect the current OMB amount.

Removal of Part 14

FEMA is removing part 14, “Administration of Grants: Audits of State and Local Governments,” as well as appendix A to part 14. Part 14 and its appendix implement OMB Circular A-128, “Audits of State and Local Governments”. In 1997, OMB Circular A-128 was rescinded by revised OMB Circular A-133, “Audits of States, Local Governments, and Non-Profit Organizations,” which consolidated audit requirements. Revised OMB Circular A-133 established uniform audit requirements for non-Federal entities that administer Federal awards, and implemented the Single Audit Act Amendments of 1996 (Pub. L. 104-156). The provisions of the revised Circular A-133 were implemented by FEMA at part 13 (62 FR 45937, Aug. 29, 1997). Accordingly, this rule removes part 14, Appendix A to part 14, and any references to part 14 throughout title 44.

Statutory Requirements

Executive Order 12866, Regulatory Planning and Review

This rule is not a “significant regulatory action” under section 3(f) of Executive Order 12866, Regulatory Planning and Review, and does not require an assessment of potential costs and benefits under section 6(a)(3) of that Order. OMB has not reviewed it under that Order. It is not “significant” under the regulatory policies and procedures of DHS. FEMA expects the economic impact of this rule to be so minimal that a full Regulatory Evaluation under the regulatory policies and procedures of DHS is unnecessary. As this rule involves internal agency practices and procedures and non-substantive changes, it will not impose any costs on the public.

Regulatory Flexibility Act

Under the Regulatory Flexibility Act (5 U.S.C. 601-612), FEMA has considered whether this rule would have a significant economic impact on a substantial number of small entities. The term “small entities” comprises small businesses, not-for-profit organizations that are independently owned and operated and are not dominant in their fields, and governmental jurisdictions with populations of less than 50,000. This rule does not require a Notice of Proposed Rulemaking and, therefore, is exempt from the requirements of the Regulatory Flexibility Act. Although this rule is exempt, FEMA has reviewed it for potential economic impact on small entities. This rule will have no substantive effect on the regulated public. Therefore, FEMA certifies under 5 U.S.C. 605(b) that this rule will not have a significant economic impact on a substantial number of small entities.

Paperwork Reduction Act of 1995

This rule calls for no new collection of information under the Paperwork Reduction Act of 1995 (44 U.S.C. 3501-3520).

Executive Order 13132, Federalism

A rule has implications for federalism under Executive Order 13132, Federalism, if it has a substantial direct effect on State or local governments and would either preempt State law or impose a substantial direct cost of compliance on them. FEMA has analyzed this rule under that Order and determined that it does not have implications for federalism.

Unfunded Mandates Reform Act of 1995

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, FEMA does discuss the effects of this rule elsewhere in this preamble.

Executive Order 12630, Taking of Private Property

This rule will not affect a taking of private property or otherwise have taking implications under Executive Order 12630, Governmental Actions and Interference with Constitutionally Protected Property Rights.

Executive Order 12988, Civil Justice Reform

This rule meets applicable standards in sections 3(a) and 3(b)(2) of Executive Order 12988, Civil Justice Reform, to minimize litigation, eliminate ambiguity, and reduce burden.

Executive Order 13175, Consultation and Coordination With Indian Tribal Governments

This rule does not have tribal implications under Executive Order 13175, Consultation and Coordination with Indian Tribal Governments, because it does not have a substantial direct effect on one or more Indian tribes, on the relationship between the Federal government and Indian tribes, or on the distribution of power and responsibilities between the Federal government and Indian tribes.

National Environmental Policy Act

This rule makes administrative technical changes to FEMA's regulations to reflect changes in agency organization and authorities. It is not a major agency action, nor will it affect the quality of the environment. This final rule will not require the preparation of either an environmental assessment or an environmental impact statement as defined by the National Environmental Policy Act.

Congressional Review of Agency Rulemaking

FEMA has sent this final rule to the Congress and to the Government Accountability Office under the Congressional Review of Agency Rulemaking Act, 5 U.S.C. 801-808. The rule in not a “major rule” within the meaning of that Act and will not result in an annual effect on the economy of $100,000,000 or more. Moreover, it will not result in a major increase in costs or prices for consumers, individual industries, Federal, State, or local government agencies, or geographic regions. FEMA does not expect that it will have “significant adverse effects” on competition, employment, investment, productivity, innovation, or on the ability of United States-based enterprises to compete with foreign-based enterprises.

List of Subjects

44 CFR Part 1

Administrative practice and procedure.

44 CFR Part 2

Authority delegations (Government agencies), Organization and functions (Government agencies), Reporting and recordkeeping requirements.

44 CFR Part 4

Intergovernmental relations.

44 CFR Part 5

Courts, Freedom of information, Government employees.

44 CFR Part 6

Privacy.

44 CFR Part 7

Administrative practice and procedure, Aged, Civil rights, Reporting and recordkeeping requirements.

44 CFR Part 8

Classified information.

44 CFR Part 9

Flood plains, Reporting and recordkeeping requirements.

44 CFR Part 10

Environmental impact statements.

44 CFR Part 11

Claims, Government employees, Income taxes, Reporting and recordkeeping requirements, Wages.

44 CFR Part 12

Advisory committees.

44 CFR Part 13

Accounting, Grant programs, Indians, Intergovernmental relations, Reporting and recordkeeping requirements.

44 CFR Part 14

Accounting, Grant programs, Indians, Intergovernmental relations, Loan programs, Reporting and recordkeeping requirements.

44 CFR Part 15

Federal buildings and facilities, Penalties, Security measures.

44 CFR Part 16

Administrative practice and procedure, Civil rights, Equal employment opportunity, Federal buildings and facilities, Individuals with disabilities.

44 CFR Part 17

Administrative practice and procedure, Drug abuse, Grant programs, Loan programs, Reporting and recordkeeping requirements.

44 CFR Part 59

Flood insurance, Reporting and recordkeeping requirements.

44 CFR Part 60

Flood insurance, Flood plains, Reporting and recordkeeping requirements.

44 CFR Part 61

Flood insurance, Reporting and recordkeeping requirements.

44 CFR Part 62

Claims, Flood insurance, Reporting and recordkeeping requirements.

44 CFR Part 63

Flood insurance, Intergovernmental relations, Reporting and recordkeeping requirements.

44 CFR Part 64

Flood insurance, Reporting and recordkeeping requirements.

44 CFR Part 65

Flood insurance, Reporting and recordkeeping requirements.

44 CFR Part 66

Flood insurance, Intergovernmental relations, Reporting and recordkeeping requirements.

44 CFR Part 67

Administrative practice and procedure, Flood insurance, Reporting and recordkeeping requirements.

44 CFR Part 68

Administrative practice and procedure, Flood insurance.

44 CFR Part 70

Administrative practice and procedure, Flood insurance, Reporting and recordkeeping requirements.

44 CFR Part 71

Coastal zone, Flood insurance, Reporting and recordkeeping requirements.

44 CFR Part 73

Flood insurance, Intergovernmental relations.

44 CFR Part 75

Flood insurance, Reporting and recordkeeping requirements.

44 CFR Part 78

Flood insurance, Grant programs.

44 CFR Part 150

Civil defense, Decorations, Medals, Awards, Firefighters, Law enforcement officers, Reporting and recordkeeping requirements.

44 CFR Part 151

Claims, Fire prevention, Government property, Reporting and recordkeeping requirements.

44 CFR Part 152

Fire prevention, Grant programs, Reporting and recordkeeping requirements.

44 CFR Part 201

Administrative practice and procedure, Disaster assistance, Grant programs, Reporting and recordkeeping requirements.

44 CFR Part 204

Administrative practice and procedure, Fire prevention, Grant programs, Reporting and recordkeeping requirements.

44 CFR Part 206

Administrative practice and procedure, Coastal zone, Community facilities, Disaster assistance, Fire prevention, Grant programs—housing and community development, Housing, Insurance, Intergovernmental relations, Loan programs—housing and community development, Natural resources, Penalties, Reporting and recordkeeping requirements.

44 CFR Part 208

Disaster assistance, Grant programs.

44 CFR Part 209

Administrative practice and procedure, Disaster assistance, Grant programs, Reporting and recordkeeping requirements.

44 CFR Part 295

Administrative practice and procedure, Claims, Disaster assistance, Federally affected areas, Indians—lands, Public lands, Reporting and recordkeeping requirements.

44 CFR Part 300

Disaster assistance, Grant programs—housing and community development, Technical assistance.

44 CFR Part 302

Civil defense, Grant programs—National defense, Reporting and recordkeeping requirements.

44 CFR Part 304

American Samoa, Civil defense, Grant programs—National defense, Guam, Northern Mariana Islands, Reporting and recordkeeping requirements, Virgin Islands.

44 CFR Part 312

Civil defense, Disaster assistance, Grant programs—National defense.

44 CFR Part 321

Business and industry, National defense.

44 CFR Part 327

Business and industry, Government property, National defense.

44 CFR Part 330

Authority delegations (Government agencies), Energy, National defense.

44 CFR Part 331

Government contracts, Government procurement, Manpower, National defense.

44 CFR Part 332

Business and industry, Freedom of information, National defense, Reporting and recordkeeping requirements.

44 CFR Part 334

Civil defense.

44 CFR Part 350

Administrative practice and procedure, Disaster assistance, Intergovernmental relations, Nuclear power plants and reactors, Radiation protection, Technical assistance.

44 CFR Part 352

Administrative practice and procedure, Disaster assistance, Intergovernmental relations, Nuclear power plants and reactors, Radiation protection, Reporting and recordkeeping requirements, Technical assistance.

44 CFR Part 354

Disaster assistance, Intergovernmental relations, Nuclear power plants and reactors, Radiation protection, Technical assistance.

44 CFR Part 360

Civil defense, Disaster assistance, Education, Grant programs—education, Intergovernmental relations, Reporting and recordkeeping requirements.

44 CFR Part 361

Disaster assistance, Grant programs—housing and community development, Reporting and recordkeeping requirements.

44 CFR Part 362

Disaster assistance.

For the reasons stated in the preamble, FEMA amends 44 CFR Chapter I as follows:

PART 1—RULEMAKING; POLICY AND PROCEDURES

1. The authority citation for part 1 continues to read as follows:

Authority: 5 U.S.C. 551, 552, 553; 5 U.S.C. 601, et seq.; E.O. 12291. Reorganization Plan No. 3 of 1978; E.O. 12127; E.O. 12148.

§ 1.2 [Amended]

2. In § 1.2(c), remove the word “Director” wherever it appears, and add, in its place, the word “Administrator”.

§ 1.3 [Amended]

3. In § 1.3(b), remove the word “Director” and add, in its place, the word “Administrator”.

§ 1.4 [Amended]

4. In § 1.4—

a. In paragraphs (d), (e) and (f), remove the word “Director” wherever it appears, and add, in its place, the word “Administrator”; and

b. In paragraph (h), remove the number “12291” and add, in its place, the number “12866”.

§ 1.5 [Amended]

5. In § 1.5(a), remove the words “General Counsel” wherever they appear, and add, in their place, the words “Chief Counsel”.

§ 1.10 [Amended]

6. In § 1.10, remove the word “Director's” and add, in its place, the word “Administrator's”.

§ 1.13 [Amended]

7. In § 1.13(a) and (b), remove the word “Director” wherever it appears, and add, in its place, the word “Administrator”.

§ 1.14 [Amended]

8. In § 1.14, remove the word “Director” and add, in its place, the word “Administrator”.

§ 1.15 [Amended]

9. In § 1.15(b), remove the word “Director” and add, in its place, the word “Administrator”.

§ 1.16 [Amended]

10. In § 1.16(b) introductory text and (b)(4), remove the word “Director” wherever it appears, and add, in its place, the word “Administrator”.

§ 1.18 [Amended]

11. In § 1.18(a) introductory text and (b), remove the word “Director” wherever it appears, and add, in its place, the word “Administrator”.

12. Revise part 2 to read as follows:

PART 2—OMB CONTROL NUMBERS

Sec.
2.1 Purpose.
2.2 OMB control numbers assigned to information collections.

Authority: 5 U.S.C. 552; 42 U.S.C. 3507; Reorganization Plan No. 3 of 1978, 5 U.S.C. App. 1; E.O. 12127, 3 CFR, 1979 Comp., p. 376; E.O. 12148, as amended, 3 CFR, 1979 Comp., p. 412.

§ 2.1 Purpose.

This part collects and displays the control numbers assigned to information collection requirements of FEMA by the Office of Management and Budget (OMB) pursuant to the Paperwork Reduction Act of 1980 (44 U.S.C. 3501 et seq.). FEMA intends that this part comply with the requirements of section 3507(f) of the Paperwork Reduction Act, which requires that agencies display a current control number assigned by the Director of OMB for each agency information collection requirement.

§ 2.2 OMB control numbers assigned to information collections.

44 CFR part or section where identified or described | Current OMB Control No.
59 | 1660-0023
59.22 | 1660-0003, 1660-0004
59 subpart C | 1660-0045
60.6, 60.3 | 1660-0033
61.13 | 1660-0006
62 subpart B | 1660-0005,1660-0095
62.23(l) | 1660-0086
62.24 | 1660-0020, 1660-0038
65, 70 generally | 1660-0037
71.4 | 1660-0010
72 | 1660-0015, 1660-0016
75.11 | 1660-0013
78 | 1660-0062, 1660-0072,1660-0075
79.7(d) | 1660-0104
80 | 1660-0103
151.11 | 1660-0014
152.4, 152.7 | 1660-0069
201 | 1660-0062, 1660-0072, 1660-0103
204 | 1660-0058
206 subpart B: 206.34, 206.35, 206.36, 206.46, 206.47 | 1660-0009
206 subpart D: 206.101(e), 202.110, 206.117, 206.119 | 1660-0002
206.112, 206.114, 206.115 | 1660-0061
206.171 | 1660-0085
206.202(f)(2), 206.203(c), 206.203(d)(i), 206.204(f) | 1660-0017
206 subpart K | 1660-0082, 1660-0083
206 subpart N | 1660-0076
206.437 | 1660-0026
206.440 | 1660-0076
208 | 1660-0073
352 | 1660-0024

PART 4—INTERGOVERNMENTAL REVIEW OF FEDERAL EMERGENCY MANAGEMENT AGENCY (FEMA) PROGRAMS AND ACTIVITIES

13. The authority citation for part 4 continues to read as follows:

Authority: E.O. 12372, July 14, 1982 (47 FR 30959), as amended April 8, 1983 (48 FR 15887); sec. 401, Intergovernmental Cooperation Act of 1968, as amended (31 U.S.C. 6506); sec. 204, Demonstration Cities and Metropolitan Development Act of 1966, as amended (42 U.S.C. 3334).

14. In § 4.2, remove the definition of “Director” and add a new definition of “Administrator” in alphabetical order to read as follows:

§ 4.2 What definitions apply to these regulations?

Administrator means the Administrator of FEMA or an official or employee of FEMA acting for the Administrator of FEMA under a delegation of authority.

* * * * *

§ 4.3 [Amended]

15. In § 4.3, remove the word “Director” and add, in its place, the word “Administrator”.

§ 4.5 [Amended]

16. In § 4.5—

a. In the section heading, remove the word “Director's” and add, in its place, the word “Administrator's”; and

b. In the regulatory text, remove the word “Director” and add, in its place, the word “Administrator”.

§ 4.6 [Amended]

17. In § 4.6 paragraphs (b), (c) and (d), remove the word “Director” wherever it appears, and add, in its place, the word “Administrator”.

§ 4.7 [Amended]

18. In § 4.7, in the section heading and paragraphs (a) introductory text and (b) introductory text, remove the word “Director” wherever it appears, and add, in its place, the word “Administrator”.

§ 4.8 [Amended]

19. In § 4.8, in the section heading and paragraph (a), remove the word “Director” wherever it appears, and add, in its place, the word “Administrator”.

§ 4.9 [Amended]

20. In § 4.9, in the section heading and paragraphs (a) introductory text, (d) and (e), remove the word “Director” wherever it appears, and add, in its place, the word “Administrator”.

§ 4.10 [Amended]

21. In § 4.10, in the section heading and paragraphs (a) introductory text, (a)(3), (b) introductory text and (b)(2), remove the word “Director” wherever it appears, and add, in its place, the word “Administrator”.

§ 4.11 [Amended]

22. In § 4.11—

a. In the section heading, remove the word “Director's” and add, in its place, the word “Administrator's”; and

b. In paragraphs (a) introductory text, (a)(4) and (b), remove the word “Director” wherever it appears, and add, in its place, the word “Administrator”.

§ 4.12 [Amended]

23. In § 4.12(b) and (c), remove the word “Director” wherever it appears, and add, in its place, the word “Administrator”.

§ 4.13 [Amended]

24. In § 4.13, in the section heading and regulatory text, remove the word “Director” wherever it appears, and add, in its place, the word “Administrator”.

PART 5—PRODUCTION OR DISCLOSURE OF INFORMATION

25. The authority citation for part 5 continues to read as follows:

Authority: 5 U.S.C. 552 as amended by sections 1801-1804 of the Omnibus Anti-Drug Abuse Act of 1986 which contains the Freedom of Information Reform Act of 1986 (Pub. L. 99-570); 5 U.S.C. 301 (Pub. L. 85-619); Reorganization Plan No. 3 of 1978; E.O. 12127; and E.O. 12148.

§ 5.3 [Amended]

26. In § 5.3(e), remove the words “Regional Director” and add, in their place, the words “Regional Administrator”.

§ 5.8 [Amended]

27. In § 5.8, remove the words “General Counsel” and add, in their place, the words “Chief Counsel”.

§ 5.22 [Amended]

28. In § 5.22, remove the words “General Counsel” and add, in their place, the words “Chief Counsel”.

§ 5.26 [Amended]

29. Revise § 5.26(a)(2) to read as follows:

§ 5.26 Rules for public inspection and copying.

(a) * * *

(2) Regional Offices

Region I: 99 High Street, 6th Floor, Boston, Massachusetts 02110.

Region II: 26 Federal Plaza, Suite 1337, New York, New York 10278.

Region III: 615 Chestnut Street, One Independence Mall, 6th Floor, Philadelphia, Pennsylvania 19106.

Region IV: 3003 Chamblee Tucker Road, Atlanta, Georgia 30341.

Region V: 536 South Clark Street, 6th Floor, Chicago, Illinois 60605.

Region VI: Federal Regional Center, 800 North Loop 288, Denton, Texas 76209.

Region VII: 9221 Ward Parkway, Suite 300, Kansas City, Missouri 64114.

Region VIII: Denver Federal Center, Building 710, Box 25267, Denver, Colorado 80255.

Region IX: 1111 Broadway, Suite 1200, Oakland, California 94607.

Region X: Federal Regional Center, 130 228th Street SW, Bothell, Washington 98021.

* * * * *

§ 5.27 [Amended]

30. In § 5.27, remove the words “General Counsel” and add, in their place, the words “Chief Counsel”; and remove the words “Regional Director” and add, in their place, the words “Regional Administrator”.

§ 5.41 [Amended]

31. In § 5.41, remove the words “and from FEMA, P.O. Box 8181, Washington, DC 20024” and add, in their place, the words “, the FEMA Library at www. FEMA.gov, or from the FEMA Distribution Center at P.O. Box 2012, 8231 Stayton Drive, Jessup, Maryland 20794”.

§ 5.47 [Amended]

32. In § 5.47, remove the words “Deputy Director” and add, in their place, the words “Deputy Administrator”.

33. Revise § 5.54(a) to read as follows:

§ 5.54 Denial of request of records.

(a) Each of the following officials within FEMA, any official designated to act for the official, or any official redelegated authority by such officials shall have the authority to make initial denials of requests for disclosure of records in his or her custody, and shall, in accordance with 5 U.S.C. 552(a)(6)(C) be the responsible official for denial of records under this part.

(1) Deputy Administrator(s).

(2) [Reserved]

(3) Federal Insurance Administrator.

(4) Assistant Administrators.

(5) United States Fire Administrator.

(6) Chief of Staff.

(7) Office Directors.

(8) Chief Counsel.

(9) [Reserved]

(10) Chief Financial Officer.

(11) Regional Administrators.

* * * * *

§ 5.55 [Amended]

34. In § 5.55—

a. In paragraph (a), remove the words “Regional Director” and add, in their place the words “Regional Administrator”;

b. In paragraph (d), remove the words “Deputy Director”, and add, in their place the words “Deputy Administrator”;

c. In paragraph (e), remove the words “Deputy Director” wherever they appear, and add, in their place the words “Deputy Administrator”; remove the word “Director” wherever it appears, and add, in its place, the word “Administrator”; and remove the word “Deputy's” and add, in its place, the words “Deputy Administrator's”; and

d. In paragraph (h) introductory text, remove the words “Deputy Director” wherever they appear, and add, in their place the words “Deputy Administrator”.

§ 5.59 [Amended]

35. In § 5.59, remove the words “Deputy Director” and add, in their place, the words “Deputy Administrator”.

§ 5.60 [Amended]

36. In § 5.60, remove the word “Director” wherever it appears, and add, in its place, the word “Administrator”.

§ 5.72 [Amended]

37. In § 5.72, remove the word “Director” and add, in its place, the word “Administrator”.

§ 5.82 [Amended]

38. In § 5.82(b), remove the word “Director” and add, in its place, the word “Administrator”.

§ 5.83 [Amended]

39. In § 5.83, remove the words “Regional Director” and add, in their place the words “Regional Administrator”; remove the words “General Counsel, FEMA” and add, in their place, the words “Chief Counsel, FEMA, 500 C Street SW., Washington, DC 20472”; and remove the words “For records or testimony of the Office of Inspector General, the subpoena should be addressed to the Inspector General, FEMA, Washington, DC 20472.”.

§ 5.84 [Amended]

40. In § 5.84—

a. In paragraph (a), remove the words “General Counsel” wherever they appear, and add, in their place, the words “Chief Counsel.”; and remove the words “or, as to records of the Office of the Inspector General, by the Inspector General”;

b. In paragraph (b), remove the words “Regional Director” and add, in their place, the words “Regional Administrator”; remove the words “General Counsel” and add, in their place, the words “Chief Counsel; and remove the words “unless the subpoena or demand seeks the production of documents or materials maintained by the Office of Inspector General, in which case a copy of the demand shall be provided to the Inspector General.”

c. In paragraph (c), remove the words “General Counsel” and add, in their place, the words “Chief Counsel”; and remove the words “(or Inspector General)”;

d. In paragraph (d), remove the words “General Counsel” wherever they appear, and add, in their place, the words “Chief Counsel”; remove the words “(or Inspector General)” and remove the words “(or, where appropriate, the Inspector General)”; and

e. In paragraph (e), remove the words “General Counsel” wherever they appear, and add, in their place, the words “Chief Counsel”; remove the words “(or, as to documents maintained by Office of Inspector General, the Inspector General)”; and remove the words “(or Inspector General)”.

41. Revise § 5.85 to read as follows:

§ 5.85 Authentication and attestation of copies.

The Administrator, Deputy Administrators, Regional Administrators, Assistant Administrators, United States Fire Administrator, Federal Insurance Administrator, Chief Counsel, and their designees, and other heads of offices having possession of records are authorized in the name of the Administrator to authenticate and attest for copies or reproductions of records. Appropriate fees will be charged for such copies or reproductions based on the fee schedule set forth in section 5.46 of this part.

§ 5.87 [Amended]

42. In § 5.87—

a. In paragraph (b), remove the words “other than an employee of the Office of Inspector General,”; remove the words “General Counsel” wherever they appear, and add, in their place, the words “Chief Counsel”; remove the words “Employees of the Office of Inspector General shall notify the Inspector General of such demands.”; and remove the words “(or Inspector General through designated legal counsel)”; and

b. In paragraph (c), remove the words “General Counsel” and add, in their place, the words “Chief Counsel”; and remove the words “(or Inspector General)”.

§ 5.88 [Amended]

43. In § 5.88(a), remove the words “General Counsel” and add, in their place, the words “Chief Counsel”.

§ 5.89 [Amended]

44. In § 5.89, remove the words “General Counsel” wherever they appear, and add, in their place, the words “Chief Counsel”; remove the words “(or, as to employees of the Office of Inspector General, the Inspector General)”; remove the words “(or Inspector General)”; and remove the word “Director” and add, in its place, the word “Administrator”;

PART 6—IMPLEMENTATION OF THE PRIVACY ACT OF 1974

45. The authority citation for part 6 continues to read as follows:

Authority: 5 U.S.C. 552a; Reorganization Plan No. 3 of 1978; and E.O. 12127.

§ 6.2 [Amended]

46. In § 6.2—

a. In paragraph (m), remove the word “Director” and add, in its place, the words “Administrator of”; and

b. In paragraph (n), remove the words “Deputy Director” wherever they appear, and add, in their place, the words “Deputy Administrator”; and remove the word “Director” and add, in its place, the word “Administrator”.

§ 6.3 [Amended]

47. In § 6.3(b), remove the words “Director, Office of Administrative Support” and add, in their place, the words “Director, Records Management Division, Office of Management”; and remove the words “Regional Directors” and add, in their place, the words “Regional Administrators”.

§ 6.20 [Amended]

48. In § 6.20—

a. In paragraph (g), remove the word “Director” and add, in its place, the word “Administrator”; and

b. In paragraph (j), remove the words “General Accounting Office” and add, in their place, the words “Government Accountability Office”.

§ 6.21 [Amended]

49. In § 6.21(b), remove the word “Director” and add, in its place, the word “Administrator”.

50. In § 6.33—

a. In paragraph (d), remove the words “General Counsel” and add, in their place, the words “Chief Counsel”; and

b. Revise paragraph (b) to read as follows:

§ 6.33 Denial of access.

* * * * *

(b) Upon receipt of a request for access to a record which the system manager believes is contained within an exempt system of records he or she shall forward the request to the appropriate official listed below or to his or her delegate through normal supervisory channels.

(1) Deputy Administrators.

(2) [Reserved]

(3) Federal Insurance Administrator.

(4) Assistant Administrators.

(5) United States Fire Administrator.

(6) Chief of Staff.

(7) Office Directors.

(8) Chief Counsel.

(9) [Reserved]

(10) Chief Financial Officer.

(11) Regional Administrators.

* * * * *

§ 6.34 [Amended]

51. In § 6.34, remove the word “Director” and add, in its place, the word “Administrator”.

§ 6.50 [Amended]

52. In § 6.50, remove the words “FEMA Director of Personnel” and add, in their place, the words “Director, Human Capital Division”.

§ 6.55 [Amended]

53. In § 6.55—

a. In paragraph (c), remove the words “General Counsel” and add, in their place, the words “Chief Counsel”;

b. In paragraphs (d), (e) and (f) introductory text, remove the words “Deputy Director” wherever they appear, and add, in their place, the words “Deputy Administrator”; and

c. In paragraph (h), remove the word “Director” wherever it appears, and add, in its place, the word “Administrator”; and remove the word “Director's” and add, in its place, the word “Administrator's”.

§ 6.70 [Amended]

54. In § 6.70(a) and (b), remove the word “Director”, and add, in its place, the word “Administrator”; and remove the word “Director's” and add, in its place, the word “Administrator's”.

§ 6.71 [Amended]

55. In § 6.71(b), remove the word “Director” and add, in its place, the word “Administrator”.

§ 6.86 [Amended]

56. In § 6.86(a), remove the word “Director” and add, in its place, the word “Administrator”.

§ 6.87 [Amended]

57. In § 6.87(a), (c) introductory text and (c)(2), remove the word “Director” wherever it appears, and add, in its place, the word “Administrator”.

PART 7—NONDISCRIMINATION IN FEDERALLY-ASSISTED PROGRAMS

58. The authority citation for part 7 continues to read as follows:

Authority: FEMA Reg. 5 issued under sec. 602, 78 Stat. 252; 42 U.S.C. 2000 d-1; 42 U.S.C. 1855-1885g; 50 U.S.C. 404.

§ 7.2 [Amended]

59. In § 7.2(a), remove the word “Director” and add, in its place, the word “Administrator”.

§ 7.12 [Amended]

60. In § 7.12(c) and (d), remove the word “Director” wherever it appears, and add, in its place, the word “Administrator”.

§ 7.13 [Amended]

61. In § 7.13(e), remove the word “Director” and add, in its place, the word “Administrator”.

§ 7.14 [Amended]

62. In § 7.14(e) and (f), remove the word “Director” wherever it appears, and add, in its place, the word “Administrator”.

§ 7.16 [Amended]

63. In § 7.16(c), remove the word “Director” and add, in its place, the word “Administrator”.

§ 7.913 [Amended]

64. In § 7.913, remove the definition of “Director”, and add a new definition of “Administrator” in alphabetical order to read as follows:

§ 7.913 Definition of terms used in this regulation.

* * * * *

Administrator means the Administrator of the Federal Emergency Management Agency.

* * * * *

§ 7.942 [Amended]

65. In § 7.942(a) introductory text, remove the word “Director” and add, in its place, the word “Administrator”.

§ 7.945 [Amended]

66. In § 7.945(c)(1) and (c)(2), remove the word “Director” wherever it appears, and add, in its place, the word “Administrator”.

§ 7.948 [Amended]

67. In § 7.948(a) and (b) introductory text, remove the word “Director” wherever it appears, and add, in its place, the word “Administrator”.

§ 7.949 [Amended]

68. In § 7.949(b)(3)(iii), remove the word “Director” and add, in its place, the word “Administrator”.

PART 8—NATIONAL SECURITY INFORMATION

69. The authority citation for part 8 continues to read as follows:

Authority: Reorganization Plan No. 3 of 1978, E.O. 12148 and E.O. 12356.

§ 8.2 [Amended]

70. In § 8.2—

a. In paragraph (a) remove the word “Director” wherever it appears, and add, in its place, the word “Administrator”;

b. Redesignate paragraph (d) as new paragraph (e), and remove the word “Director” wherever it appears, and add, in its place, the word “Administrator”;

c. Designate the undesignated paragraph below paragraph (c)(2) as new paragraph (d); and

d. Revise § 8.2(b) and (c) to read as follows:

§ 8.2 Original classification authority.

* * * * *

(b) In accordance with section 1.2(d)(2), E.O. 12356, the following positions have been delegated ORIGINAL TOP SECRET CLASSIFICATION AUTHORITY by the Administrator, FEMA:

(1) Deputy Administrator, FEMA

(2) Deputy Administrator, National Preparedness Directorate

(3) Director, Office of Security

(c) The positions delegated original Top Secret Classification Authority in paragraph (b) of this section, are also delegated Original Secret and Confidential Classification Authority by virtue of this delegation. The following positions have been delegated Original Secret and Original Confidential Classification Authority:

(1) Associate Director, State and Local Programs and Support.

(2) Regional Administrators.

§ 8.3 [Amended]

71. In § 8.3, remove the words “Director of Security, FEMA” and add, in their place, the words “Director of the Security Division”.

§ 8.4 [Amended]

72. In § 8.4—

a. In paragraphs (b) and (c), remove the words “Office of Security” wherever they appear, and add, in their place, the words “Security Division”;

b. In paragraph (e), remove the words “Director of Security” and add, in their place, the words “Director of the Security Division”; remove the words “Office of Security” wherever they appear, and add, in their place, the words “Security Division”; and remove the word “Director” and add, in its place, the word “Administrator”;

c. In paragraph (g)(1), remove the word “Director” and add, in its place, the word “Administrator”; remove the words “Director of Security” and add, in their place, the words “Director of the Security Division”; and remove the words “Office of General Counsel” and add, in their place, the words “Office of Chief Counsel”; and

d. In paragraph (g)(3), remove the word “Director” and add, in its place, the word “Administrator”.

PART 9—FLOODPLAIN MANAGEMENT AND PROTECTION OF WETLANDS

73. The authority citation for part 9 continues to read as follows:

Authority: E.O. 11988 of May 24, 1977. 3 CFR, 1977 Comp., p. 117; E.O. 11990 of May 24 1977, 3 CFR, 1977 Comp. p. 121; Reorganization Plan No. 3 of 1978, 43 FR 41943, 3 CFR, 1978 Comp., p. 329; E.O. 12127 of March 31, 1979, 44 FR 19367, 3 CFR, 1979 Comp., p. 376; E.O. 12148 of July 20, 1979, 44 FR 43239, 3 CFR, 1979 Comp., p. 412, as amended.; E.O. 12127; E.O. 12148; 42 U.S.C. 5201.

§ 9.4 [Amended]

74. In § 9.4, remove the definitions for “Associate Director”, “Director”, “Regional Director”, and “SLPS”; and add in alphabetical order definitions for “Administrator”, “Mitigation Directorate”, and “Regional Administrator”; and revise the definitions for “Flood Hazard Boundary Map (FHBM)” and “Flood Insurance Rate Map (FIRM)” to read as follows:

§ 9.4 Definitions.

* * * * *

Administrator means the Administrator of the Federal Emergency Management Agency.

* * * * *

Flood Hazard Boundary Map (FHBM) means an official map of a community, issued by the Administrator, where the boundaries of the flood, mudslide (i.e., mudflow) and related erosion areas having special hazards have been designated as Zone A, M, or E.

Flood Insurance Rate Map (FIRM) means an official map of a community on which the Administrator has delineated both the special hazard areas and the risk premium zones applicable to the community. FIRMs are also available digitally, and are called Digital Flood Insurance Rate Maps (DFIRM).

* * * * *

Mitigation Directorate means the Mitigation Directorate of the Federal Emergency Management Agency.

* * * * *

Regional Administrator means the Regional Administrator of the Federal Emergency Management Agency for the Region in which FEMA is acting, or the Disaster Recovery Manager when one is designated.

* * * * *

§ 9.5 [Amended]

75. In § 9.5—

a. In paragraph (c) introductory text, remove the words “Regional Directors” and add, in their place, the words “Regional Administrators”;

b. In paragraph (d) introductory text, remove the words “Regional Director” wherever they appear, and add, in their place, the words “Regional Administrator”.

c. In paragraph (f)(1), remove the word “SLPS,” wherever it appears, and add, in its place, the words “the Mitigation Directorate”;

d. In paragraph (f)(2), remove the words “Associate Director, SLPS” and add, in their place, the words “Assistant Administrator for Mitigation”; and

e. In paragraph (g) introductory text, remove the words “Regional Director” wherever they appear and add, in their place, the words “Regional Administrator”.

§ 9.7 [Amended]

76. In § 9.7(b) introductory text, (c)(1)(i), (c)(1)(ii), (c)(1)(iii), (c)(2), and (d)(4), remove the words “Regional Director” wherever they appear and add, in their place, the words “Regional Administrator”.

§ 9.10 [Amended]

77. In § 9.10(d) introductory text, remove the words “Regional Director” and add, in their place, the words “Regional Administrator”.

§ 9.11 [Amended]

78. In § 9.11—

a. In paragraphs (d)(2), (d)(3)(iv), and (d)(9), remove the words “Regional Director” wherever they appear, and add, in their place, the words “Regional Administrator”; and

b. In paragraph (e)(2)(i), remove the word “Director” wherever it appears, and add, in its place, the word “Administrator”.

§ 9.13 [Amended]

79. In § 9.13—

a. In paragraphs (d)(3) introductory text and (d)(4) introductory text, remove the words “Regional Director” wherever they appear, and add, in their place, the words “Regional Administrator”; and

b. In paragraph (e), remove the words “Associate Director for State and Local Programs and Support” and add, in their place the words “Assistant Administrator for Mitigation”; and remove the words “Regional Director” and add, in their place, the words “Regional Administrator”.

§ 9.18 [Amended]

80. In § 9.18—

a. In the heading to paragraph (a), in the introductory text to paragraph (a), and in paragraph (a)(1), remove the words “Regional Director” wherever they appear, and add, in their place, the words “Regional Administrator”; and remove the words “Regional Directors” wherever they appear, and add, in their place, the words “Regional Administrators”;

b. In paragraph (a)(2), remove the words “General Counsel” and add, in their place, the words “Chief Counsel”;

c. Revise paragraph (b) to read as follows:

§ 9.18 Responsibilities.

* * * * *

(b) The Heads of the Offices, Directorates and Administrations of FEMA shall:

(1) Implement the requirements of the Orders and this regulation. When a decision of a Regional Administrator relating to disaster assistance is appealed, the Assistant Administrator for Mitigation may make determinations under these regulations on behalf of the Agency.

(2) Prepare and submit to the Office of Chief Counsel reports to the Office of Management and Budget in accordance with section 2(b) of E.O. 11988 and section 3 of E.O. 11990. If a proposed action is to be located in a floodplain or wetland, any requests to the Office of Management and Budget for new authorizations or appropriations shall be accompanied by a report indicating whether the proposed action is in accord with the Orders and these regulations.

PART 10—ENVIRONMENTAL CONSIDERATIONS

81. The authority citation for part 10 continues to read as follows:

Authority: 42 U.S.C. 4321 et seq.; E.O. 11514 of March 7, 1970, 35 FR 4247, as amended by E.O. 11991 of March 24, 1977, 3 CFR, 1977 Comp., p. 123; Reorganization Plan No. 3 of 1978, 43 FR 41943, 3 CFR, 1978 Comp., p. 329; E.O. 12127 of March 31, 1979, 44 FR 19367, 3 CFR, 1979 Comp., p. 376; E.O. 12148 of July 20, 1979, 44 FR 43239, 3 CFR, 1979 Comp., p. 412, as amended.

§ 10.3 [Amended]

82. In § 10.3—

a. In paragraph (a), remove the words “Regional Director” wherever they appear, and add, in their place, the words “Regional Administrator”; and

b. Revise paragraph (c) to read as follows:

§ 10.3 Definitions.

* * * * *

(c) Environmental Officer means the Director, Office of Environmental Planning and Historic Preservation, Mitigation Directorate, or his or her designee.

§ 10.5 [Amended]

83. In § 10.5—

a. In the heading to paragraph (a), remove the words “Regional Directors” and add, in their place, the words “Regional Administrators”;

b. In paragraph (a)(1), remove the words “Office of General Counsel (OGC)” and add, in their place, the words “Office of Chief Counsel (OCC)”;

c. In paragraph (b)(8), remove the word “Director” and add, in its place, the word “Administrator”;

d. In the heading to paragraph (c), remove the words “The Heads of the Office and Administrations of FEMA” and add, in their place, the words “The Heads of the Offices, Directorates, and Administrations of FEMA”; and

e. In the heading to paragraph (d), remove the words “Office of General Counsel” and add, in their place, the words “Office of Chief Counsel”.

§ 10.6 [Amended]

84. In § 10.6, remove the words “Regional Director” wherever they appear, and add, in their place the words “Regional Administrator”; and remove the word “Director” and add, in its place, the word “Administrator”.

§ 10.7 [Amended]

85. In § 10.7(a), (c)(1)(ii), (c)(1)(iii), (c)(2)(i), (c)(2)(v), and (c)(2)(vi), remove the words “Regional Director” wherever they appear, and add, in their place, the words “Regional Administrator”.

§ 10.8 [Amended]

86. In § 10.8—

a. In paragraphs (a) introductory text, (b)(1), (b)(3), (d)(4), (d)(5), (e), (f), and (g), remove the words “Regional Director” wherever they appear, and add, in their place, the words “Regional Administrator”; and

b. In paragraph (d)(6)(iii)(A), remove the words “General Counsel”, and add, in their place, the words “Chief Counsel”.

§ 10.9 [Amended]

87. In § 10.9—

a. In paragraphs (a), (c) introductory text and (d), remove the words “Regional Director” wherever they appear, and add, in their place, the words “Regional Administrator”;

b. In paragraph (e), remove the words “Regional Director” wherever they appear, and add, in their place, the words “Regional Administrator”; and remove the words “Office of General Counsel (OGC)” and add, in their place, the words “Office of Chief Counsel (OCC)”;

c. In paragraph (f), remove the word “OGC” and add, in its place, the word “OCC”; and remove the words “Regional Director” wherever they appear, and add, in their place, the words “Regional Administrator”; and

d. In paragraph (g), remove the words “Regional Director” wherever they appear, and add, in their place, the words “Regional Administrator”.

§ 10.10 [Amended]

88. In § 10.10—

a. In paragraphs (a), (b) and (c), remove the words “Regional Director” wherever they appear, and add, in their place, the words “Regional Administrator”; and

b. In paragraph (d), remove the word “OGC” and add, in its place, the word “OCC”; and remove the words “Regional Director” wherever they appear, and add, in their place, the words “Regional Administrator”.

§ 10.11 [Amended]

89. In § 10.11, remove the words “Regional Director” and add, in their place, the words “Regional Administrator”.

§ 10.12 [Amended]

90. In § 10.12(a) introductory text, (b), (c) and (d), remove the words “Regional Director” and add, in their place, the words “Regional Administrator”.

§ 10.13 [Amended]

91. In § 10.13, remove the words “Regional Director” wherever they appear, and add, in their place, the words “Regional Administrator”.

PART 11—CLAIMS

92. The authority citation for part 11 continues to read as follows:

Authority: 31 U.S.C. 3701 et seq.

§ 11.1 [Amended]

93. In § 11.1, remove the words “General Accounting Office” and add, in their place, the words “Government Accountability Office”.

§ 11.2 [Amended]

94. In § 11.2, remove the words “General Counsel” and add, in their place, the words “Chief Counsel”.

§ 11.11 [Amended]

95. In § 11.11—

a. In paragraph (b), remove the words “General Counsel” and add, in their place, the words “Chief Counsel”; and

b. In paragraph (c), remove the words “Director of the FEMA Regional Office” and add, in their place, the words “Administrator of the FEMA Regional Office”.

§ 11.15 [Amended]

96. In § 11.15—

a. In paragraph (a), remove the words “General Counsel” wherever they appear, and add, in their place, the words “Chief Counsel”; and

b. In paragraph (b) introductory text, remove the words “Regional Director” and add, in their place, the words “Regional Administrator”.

§ 11.16 [Amended]

97. In § 11.16(b) introductory text, remove the words “General Counsel” and add, in their place, the words “Chief Counsel”.

§ 11.17 [Amended]

98. In § 11.17, remove the words “General Counsel” and add, in their place, the words “Chief Counsel”.

§ 11.70 [Amended]

99. In § 11.70(a), remove the word “Director” and add, in its place, the word “Administrator”.

§ 11.72 [Amended]

100. In § 11.72(a), remove the words “General Counsel” and add, in their place, the words “Chief Counsel”.

§ 11.74 [Amended]

101. In § 11.74(b)(13), remove the words “General Counsel” and add, in their place, the words “Chief Counsel”.

§ 11.75 [Amended]

102. In § 11.75(d)(2) and (d)(3), remove the words “General Counsel” and add, in their place, the words “Chief Counsel”.

§ 11.76 [Amended]

103. In § 11.76(a) introductory text, remove the words “General Counsel” and add, in their place, the words “Chief Counsel”.

§ 11.77 [Amended]

104. In § 11.77(a), (b), (c), (d) and (e), remove the words “General Counsel” and add, in their place, the words “Chief Counsel”.

§ 11.79 [Amended]

105. At the end of § 11.79, remove the parenthetical which reads, “(Information collection approved by Office of Management and Budget under Control No. 3067-0167)”.

PART 12—ADVISORY COMMITTEES

106. The authority citation for part 12 continues to read as follows:

Authority: Federal Advisory Committee Act, 5 U.S.C. app. 1; Reorganization Plan No. 3 of 1978; E.O. 12127; E.O. 12148; E.O. 12024.

§ 12.2 [Amended]

107. In § 12.2, remove the definition of “Director”, and add a new definition for “Administrator” in alphabetical order to read as follows:

§ 12.2 Definitions.

* * * * *

Administrator means the Administrator of the Federal Emergency Management Agency.

* * * * *

§ 12.4 [Amended]

108. In § 12.4, remove the word “Director” and add, in its place, the word “Administrator”; and remove the words “General Counsel” and add, in their place, the words “Chief Counsel”.

§ 12.5 [Amended]

109. Revise the introductory text of § 12.5(a) to read as follows:

§ 12.5 Advisory committee management officer.

(a) The Director, Records Management Division, Office of Management serves as FEMA's advisory committee management officer and shall:

* * * * *

§ 12.6 [Amended]

110. In § 12.6(a)(2), remove the word “Director” and add, in its place, the word “Administrator”.

§ 12.9 [Amended]

111. In § 12.9—

a. In paragraphs (a), (b), (c), and (d), remove the word “Director” wherever it appears, and add, in its place, the word “Administrator”;

b. In paragraphs (c) and (d), remove the word “Director's” wherever it appears, and add, in its place, the word “Administrator's”; and

c. In paragraph (d), remove the words “General Counsel” and add, in their place, the words “Chief Counsel”.

§ 12.11 [Amended]

112. In § 12.11(d), remove the words “Public Affairs” and add, in their place, the words “External Affairs”.

§ 12.18 [Amended]

113. In § 12.18(a) and (b), remove the word “Director” wherever it appears, and add, in its place, the word “Administrator”.

§ 12.19 [Amended]

114. In § 12.19(a), remove the words “Comptroller, FEMA” and add, in their place, the words “Chief Financial Officer”.

PART 13—UNIFORM ADMINISTRATIVE REQUIREMENTS FOR GRANTS AND COOPERATIVE AGREEMENTS TO STATE AND LOCAL GOVERNMENTS

115. The authority citation for part 13 continues to read as follows:

Authority: Reorganization Plan No. 3 of 1978; 13 FR 41943, 3 CFR, 1978 Comp., p. 329; E.O. 12148, 44 FR 43239, 3 CFR, 1979 Comp., p. 412.

§ 13.26 [Amended]

116. In § 13.26—

a. In paragraph (a) after the words “(31 U.S.C. 7501-7507)”, add the words “; 31 U.S.C. 503, 1111; Executive Order 8248; Executive Order 11541;”; and

b. In paragraph (b) introductory text, remove the number “$300,000” and add, in its place, the number “$500,000”.

PART 14—[REMOVED AND RESERVED]

117. Remove and reserve part 14, consisting of §§ 14.1 and 14.2, and appendix A to part 14.

PART 15—CONDUCT AT THE MT. WEATHER EMERGENCY ASSISTANCE CENTER AND AT THE NATIONAL EMERGENCY TRAINING CENTER

118. The authority citation for part 15 continues to read as follows:

Authority: Reorganization Plan No. 3 of 1978, 43 FR 41943, 3 CFR, 1978 Comp., p. 329; E.O. 12127 of Mar. 31, 1979, 44 FR 19367, 3 CFR, 1979 Comp., p. 376; E.O. 12148, 44 FR 13239, 3 CFR, 1979 Comp., p. 412; Federal Fire Prevention and Control Act of 1974, 15 U.S.C. 2201 et seq.; delegation of authority from the Administrator of General Services, dated July 18, 1979; Pub. L. 80-566, approved June 1, 1948, 40 U.S.C. 318-318d; and the Federal Property and Administrative Services Act of 1949, 40 U.S.C. 271 et seq.

§ 15.1 [Amended]

119. In § 15.1, remove the words “Mt. Weather Emergency Assistance Center” and add, in their place, the words “Mt. Weather Emergency Operations Center”.

§ 15.2 [Amended]

120. In § 15.2, remove the definitions for “Director” and “Senior Resident Manager”; and revise the definition for “Administrator” and “Mt. Weather”; and add new definitions for “Assistant Administrator”, and “Mt. Weather Executive Director” in alphabetical order to read as follows:

§ 15.2 Definitions.

* * * * *

Administrator means the Administrator of the Federal Emergency Management Agency.

Assistant Administrator means the Assistant Administrator, United States Fire Administration, FEMA.

* * * * *

Mt. Weather means the Mt. Weather Emergency Operations Center, Bluemont, Virginia.

Mt. Weather Executive Director means the Executive Director of the Mt. Weather Emergency Operations Center.

* * * * *

§ 15.3 [Amended]

121. In § 15.3, remove the words “Director or the Senior Resident Manager” wherever they appear, and add, in their place, the words “Administrator or the Mt. Weather Executive Director”.

§ 15.9 [Amended]

122. In § 15.9—

a. In paragraph (d), remove the word “Director” and add, in its place, the words “Assistant Administrator”; and remove the words “Senior Resident Manager” and add, in their place, the words “Mt. Weather Executive Director”;

b. In paragraph (e)(1), remove the word “Director” and add, in its place, the word “Administrator”; and remove the words “Senior Resident Manager” and add, in their place, the words “Mt. Weather Executive Director”; and

c. In paragraph (e)(2), remove the words “Student Center at the NETC” and add, in their place, the words “NETC Recreation Association”; remove the word “Director” and add, in its place, the words “Assistant Administrator for the United States Fire Administration”.

§ 15.10 [Amended]

123. In § 15.10—

a. In paragraph (a), remove the words “Director for either facility” and add, in their place, the words “Assistant Administrator for the United States Fire Administration”; and remove the words “Senior Resident Manager” and add, in their place, the words “Mt. Weather Executive Director”; and

b. In paragraph (b)(1), remove the word “Director” and add, in its place, the word “Administrator” ; remove the words “Senior Resident Manager” and add, in their place, the words “Mt. Weather Executive Director”; remove the words “Administrator for the NETC” and add, in their place, the words “Assistant Administrator for the United States Fire Administration”.

§ 15.11 [Amended]

124. In § 15.11, remove the words “Senior Resident Manager” and add, in their place, the words “Mt. Weather Executive Director”; remove the word “Director” and add, in its place, the word “Administrator”; and remove the words “Administrator for the NETC” and add, in their place, the words “Deputy Assistant Administrator for the United States Fire Administration”.

§ 15.12 [Amended]

125. In § 15.12—

a. In paragraph (a), remove the words “Director or the Senior Resident Manager” and add, in their place, the words “Administrator or Mt. Weather Executive Director”; and

b. In paragraph (b)(2), remove the words “Assistant Administrator, Management Operations and Student Support, United States Fire Administration” and add, in their place, the words “Director of Management Operations and Systems Support, United States Fire Administration”.

§ 15.14 [Amended]

126. In § 15.14(d), remove the words “Director or the Senior Resident Manager or the Administrator for the NETC” and add, in their place, the words “Administrator, Mt. Weather Executive Director, or the Assistant Administrator for the United States Fire Administration”.

§ 15.15 [Amended]

127. In § 15.15(a), remove the words “Director or the Senior Resident Manager or the Administrator for the NETC” and add, in their place, the words “Administrator, Mt. Weather Executive Director, or the Assistant Administrator for the United States Fire Administration”.

PART 16—ENFORCEMENT OF NONDISCRIMINATION ON THE BASIS OF HANDICAP IN PROGRAMS OR ACTIVITIES CONDUCTED BY THE FEDERAL EMERGENCY MANAGEMENT AGENCY

128. The authority citation for part 16 continues to read as follows:

Authority: 29 U.S.C. 794.

§ 16.170 [Amended]

129. In § 16.170(c), remove the words “Director of Personnel” wherever they appear, and add, in their place, the words “Director of the Office of Equal Rights”.

PART 17—GOVERNMENTWIDE DEBARMENT AND SUSPENSION (NONPROCUREMENT) AND GOVERNMENTWIDE REQUIREMENTS FOR DRUG-FREE WORKPLACE (GRANTS)

130. The authority citation for part 17 continues to read as follows:

Authority: 41 U.S.C. 701 et seq.; E.O. 12549, 51 FR 6370, 3 CFR, 1986 Comp., p. 189; E.O. 12689, 54 FR 34131, 3 CFR, 1989 Comp., p. 235.

131. At the end of § 17.635, remove the parenthetical which reads, “(Approved by the Office of Management and Budget under control number 0991-0002)”.

PART 59—GENERAL PROVISIONS

132. The authority citation for part 59 continues to read as follows:

Authority: 42 U.S.C. 4001 et seq.; Reorganization Plan No. 3 of 1978, 43 FR 41943, 3 CFR, 1978 Comp., p. 329; E.O. 12127 of Mar. 31, 1979, 44 FR 19367, 3 CFR, 1979 Comp., p. 376.

133. In § 59.1, remove the definitions for “Director” and “General Counsel”; and revise the definitions of “Administrator”, “Chargeable Rates”, “Eligible Community or Participating Community”, “Flood Elevation Determination”, “Flood Hazard Boundary Map”, “Flood Insurance Rate Map”, “Risk Premium Rates”, “Standard Flood Insurance Policy”, “State Coordinating Agency”, “Subsidized Rates”; to read as follows:

§ 59.1 Definitions.

* * * * *

Administrator means the Administrator of the Federal Emergency Management Agency.

* * * * *

Chargeable rates mean the rates established by the Federal Insurance Administrator pursuant to section 1308 of the Act for first layer limits of flood insurance on existing structures.

* * * * *

Eligible community or participating community means a community for which the Federal Insurance Administrator has authorized the sale of flood insurance under the National Flood Insurance Program.

* * * * *

Flood elevation determination means a determination by the Federal Insurance Administrator of the water surface elevations of the base flood, that is, the flood level that has a one percent or greater chance of occurrence in any given year.

* * * * *

Flood Hazard Boundary Map means an official map of a community, issued by the Federal Insurance Administrator, where the boundaries of the flood, mudslide (i.e., mudflow) related erosion areas having special hazards have been designated as Zones A, M, and/or E.

* * * * *

Flood Insurance Rate Map (FIRM) means an official map of a community, on which the Federal Insurance Administrator has delineated both the special hazard areas and the risk premium zones applicable to the community. A FIRM that has been made available digitally is called a Digital Flood Insurance Rate Map (DFIRM).

* * * * *

Risk premium rates means those rates established by the Federal Insurance Administrator pursuant to individual community studies and investigations which are undertaken to provide flood insurance in accordance with section 1307 of the Act and the accepted actuarial principles. “Risk premium rates” include provisions for operating costs and allowances.

* * * * *

Standard Flood Insurance Policy means the flood insurance policy issued by the Federal Insurance Administrator or an insurer pursuant to an arrangement with the Federal Insurance Administrator pursuant to Federal statutes and regulations.

* * * * *

State Coordinating Agency means the agency of the state government (or other office designated by the Governor of the state or by state statute) that, at the request of the Federal Insurance Administrator, assists in the implementation of the National Flood Insurance Program in that state.

* * * * *

Subsidized rates mean the rates established by the Federal Insurance Administrator involving in the aggregate a subsidization by the Federal Government.

* * * * *

§ 59.2 [Amended]

134. In § 59.2(a) and (b), remove the word “Administrator” and add, in its place, the words “Federal Insurance Administrator.”

§ 59.22 [Amended]

135. In § 59.22, in paragraphs (a)(9)(i) and (b)(2), remove the word “Administrator” wherever it appears, and add, in its place, the words “Federal Insurance Administrator”.

§ 59.24 [Amended]

136. In § 59.24, in paragraphs (a), (b), (c), (d), (e), (f) and (g), remove the word “Administrator” wherever it appears, and add, in its place, the words “Federal Insurance Administrator”.

§ 59.30 [Amended]

137. In § 59.30—

a. In paragraphs (c)(1), (c)(2), and (c)(3) remove the words “Associate Director for Mitigation” wherever they appear;

b. In paragraph (c)(1) and (c)(2), remove the words “Regional Director” wherever they appear, and add, in their place, the words “Regional Administrator”; and

c. At the end of the section, remove the parenthetical which reads, “(Approved by the Office of Management and Budget under Control Number 3067-0275)”.

PART 60—CRITERIA FOR LAND MANAGEMENT AND USE

138. The authority citation for part 60 continues to read as follows:

Authority: 42 U.S.C. 4001 et seq.; Reorganization Plan No. 3 of 1978, 43 FR 41943, 3 CFR, 1978 Comp., p. 329; E.O. 12127 of Mar. 31, 1979, 44 FR 19367, 3 CFR, 1979 Comp., p. 376.

§ 60.1 [Amended]

139. In § 60.1(a) and (b), remove the word “Administrator” wherever it appears, and add, in its place, the words “Federal Insurance Administrator”.

§ 60.2 [Amended]

140. In § 60.2(a), (f) and (h), remove the word “Administrator” wherever it appears, and add, in its place, the words “Federal Insurance Administrator”.

§ 60.3 [Amended]

141. In § 60.3, in the introductory text and in paragraphs (a) introductory text, (b) introductory text, (c) introductory text, (d) introductory text, (d)(4), (e) and (f), remove the word “Administrator” wherever it appears, and add, in its place, the words “Federal Insurance Administrator”.

§ 60.4 [Amended]

142. In § 60.4, in the introductory text, the introductory text to paragraphs (a) and (b), and paragraph (b)(2), remove the word “Administrator” wherever it appears, and add, in its place, the words “Federal Insurance Administrator”.

§ 60.5 [Amended]

143. In § 60.5, in the introductory text, the introductory text to paragraphs (a) and (b), and paragraph (b)(2), remove the word “Administrator” wherever it appears, and add, in its place, the words “Federal Insurance Administrator”.

§ 60.6 [Amended]

144. In § 60.6, in the introductory text, and paragraphs (a) introductory text, (a)(6), (b)(1), (b)(2), and the introductory text to paragraph (c) remove the word “Administrator” wherever it appears, and add, in its place, the words “Federal Insurance Administrator”.

§ 60.11 [Amended]

145. In § 60.11(a) and (b), remove the word “Administrator” wherever it appears, and add, in its place, the words “Federal Insurance Administrator”.

§ 60.13 [Amended]

146. In § 60.13, remove the word “Administrator” and add, in its place, the words “Federal Insurance Administrator”.

§ 60.25 [Amended]

147. In § 60.25(b)(8), (c) and the introductory text to paragraph (d), remove the word “Administrator” wherever it appears, and add, in its place, the words “Federal Insurance Administrator”.

PART 61—INSURANCE COVERAGE AND RATES

148. The authority citation for part 61 continues to read as follows:

Authority: 42 U.S.C. 4001 et seq.; Reorganization Plan No. 3 of 1978, 43 FR 41943, 3 CFR, 1978 Comp., p. 329; E.O. 12127 of Mar. 31, 1979, 44 FR 19367, 3 CFR, 1979 Comp., p. 376.

§ 61.1 [Amended]

149. In § 61.1, remove the word “Administrator” and add, in its place, the words “Federal Insurance Administrator”.

§ 61.4 [Amended]

150. In § 61.4(b), remove the word “Administrator” and add, in its place, the words “Federal Insurance Administrator”.

§ 61.7 [Amended]

151. In § 61.7(a) and (b), remove the word “Administrator” wherever it appears, and add, in its place, the words “Federal Insurance Administrator”.

§ 61.11 [Amended]

152. In § 61.11(f), remove the word “Administrator” and add, in its place, the words “Federal Insurance Administrator”.

§ 61.12 [Amended]

153. In § 61.12—

a. In paragraphs (a), (b)(4), (c), (d), (e) and (f), and the introductory text to paragraph (b), remove the word “Administrator” wherever it appears, and add, in its place, the words “Federal Insurance Administrator”; and

b. In paragraph (c), remove the words “Risk Studies Division, Office of Risk Assessment, Federal Insurance Administration” and add, in their place the words “Risk Analysis Division, Mitigation Directorate”.

§ 61.13 [Amended]

154. In § 61.13(d) and (e), remove the word “Administrator” wherever it appears, and add, in its place, the words “Federal Insurance Administrator”.

§ 61.14 [Amended]

155. In § 61.14(a) and (b), remove the word “Administrator” wherever it appears and add, in its place, the words “Federal Insurance Administrator”.

§ 61.16 [Amended]

156. In § 61.16, remove the text “$50.00.”.” and add, in its place, the text “$50.00.”.

Appendix A(1) to Part 61—[Amended]

157. In Appendix A(1) to Part 61, in VI(T)(2)(h), remove the words “Regional Director” and add, in their place, the words “Regional Administrator”.

158. In Appendix A(1) to Part 61, in IX, remove the words “Jo Ann Howard”.

Appendix A(2) to Part 61—[Amended]

159. In Appendix A(2) to Part 61, in (T)(2)(h), remove the words “Regional Director” and add, in their place, the words “Regional Administrator”.

160. In Appendix A(2) to Part 61, in IX, remove the words “Jo Ann Howard”.

Appendix A(3) to Part 61—[Amended]

161. In Appendix A(3) to Part 61, in X, remove the words “Jo Ann Howard”.

PART 62—SALE OF INSURANCE AND ADJUSTMENT OF CLAIMS

162. The authority citation for part 62 continues to read as follows:

Authority: 42 U.S.C. 4001 et seq.; Reorganization Plan No. 3 of 1978, 43 FR 41943, 3 CFR, 1978 Comp., p. 329; E.O. 12127 of Mar. 31, 1979, 44 FR 19367, 3 CFR, 1979 Comp., p. 376.

§ 62.1 [Amended]

163. In § 62.1, remove the word “Administrator” and add, in its place, the words “Federal Insurance Administrator”.

§ 62.3 [Amended]

164. In § 62.3(a) remove the word “Administrator” wherever it appears, and add, in its place, the words “Federal Insurance Administrator”.

§ 62.4 [Amended]

165. In § 62.4(a), remove the word “Administrator” and add, in its place, the words “Federal Insurance Administrator”.

§ 62.20 [Amended]

166. In § 62.20—

a. In paragraph (a) remove the definition for “Administrator”;

b. In paragraph (a) in the definition for “Appeal decision”, remove the word “Administrator”, and add, in its place, the words “Federal Insurance Administrator”;

c. In paragraphs (f)(2) and (f)(3), remove the word “Administrator”, wherever it appears, and add, in its place, the words “Federal Insurance Administrator”; and

d. In paragraph (e)(1), remove the words “Mitigation Division”, and add, in their place, the words “Mitigation Directorate”.

§ 62.22 [Amended]

167. In § 62.22(b), remove the word “Director” and add, in its place, the words “the Administrator of FEMA”.

§ 62.23 [Amended]

168. In § 62.23—

a. In paragraphs (a), (e), (f), (g) and (h)(3), remove the word “Administrator” wherever it appears, and add, in its place, the words “Federal Insurance Administrator”;

b. In paragraph (i)(8), remove the words “General Counsel (OGC)”, and add, in their place, the words “Chief Counsel (OCC)”; and remove the word “OGC”, and add, in its place, the word “OCC”;

c. In paragraph (i)(11), remove the words “General Counsel”, and add, in their place, the words “Chief Counsel”;

d. In paragraph (j)(4), remove the words “Office of Financial Management” and add, in their place, the words “Chief Financial Officer”;

e. In paragraph (j)(7), remove the word “FEMA's”, and add, in its place, the word “DHS's”; and

f. At the end of the section, remove the parenthetical which reads, “(Approved by the Office of Management and Budget under OMB control number “3067-0229)”.

Appendix A to Part 62—[Amended]

169. In Appendix A to Part 62—

a. In Article II(D)(2), Article II(D)(3), Article II(D)(4), Article II(D)(5), Article III(B), Article III(C)(2), Article III(C)(3), Article III(D)(2), Article III(D)(3)(a), Article III(D)(3)(b), Article III(D)(3)(c), Article III(D)(d), and Article XIII, remove the word “Administrator” wherever it appears, and add, in its place, the words “Federal Insurance Administrator”; and

b. In Article III(D)(3)(a), remove the words “General Counsel (“OGC”) and add, in its place, the words “Chief Counsel (“OCC”)”; and remove the word “OGC” wherever it appears, and add, in its place, the word “OCC”.

Appendix B to Part 62—[Amended]

170. In Appendix B to Part 62—

a. In paragraphs (a), (c)(1), and (c)(2), remove the word “Administrator” wherever it appears, and add, in its place, the words “Federal Insurance Administrator”;

b. In paragraph (c)(2), remove the words “Office of Financial Management” and add, in their place, the words “Office of Chief Financial Officer”; and

c. In paragraph (c)(3)(G), remove the word “FEMA”, and add, in its place, the word “DHS”.

PART 63—IMPLEMENTATION OF SECTION 1306(C) OF THE NATIONAL FLOOD INSURANCE ACT OF 1968

171. The authority citation for part 63 continues to read as follows:

Authority: 42 U.S.C. 4001 et seq.; Reorganization Plan No. 3 of 1978; E.O. 12127.

§ 63.1 [Amended]

172. In § 63.1, remove the word “Administrator” and add, in its place, the words “Federal Insurance Administrator”.

§ 63.2 [Amended]

173. In § 63.2(c), remove the word “Administrator” and add, in its place, the words “Federal Insurance Administrator”.

§ 63.13 [Amended]

174. In § 63.13, remove the word “Administrator” and add, in its place, the words “Federal Insurance Administrator”.

§ 63.16 [Amended]

175. In § 63.16—

a. In the section heading, remove the word “Administrator” and add, in its place, the words “Federal Insurance Administrator”; and

b. In paragraphs (a), (b) and (c), remove the word “Administrator” wherever it appears, and add, in its place, the words “Federal Insurance Administrator”.

§ 63.17 [Amended]

176. In § 63.17, in the introductory text, remove the word “Administrator” and add, in its place, the words “Federal Insurance Administrator”.

§ 63.18 [Amended]

177. In § 63.18—

a. In the section heading, remove the word “Administrator” and add, in its place, the words “Federal Insurance Administrator”; and

b. In the introductory text, remove the word “Administrator” and add, in its place, the words “Federal Insurance Administrator”.

PART 64—COMMUNITIES ELIGIBLE FOR THE SALE OF INSURANCE

178. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.1 [Amended]

179. In § 64.1(a) and (b), remove the word “Administrator” wherever it appears, and add, in its place, the words “Federal Insurance Administrator”.

§ 64.3 [Amended]

180. In § 64.3, in the introductory text to paragraph (a) and in paragraph (c)(1), remove the word “Administrator” wherever it appears, and add, in its place, the words “Federal Insurance Administrator”.

§ 64.4 [Amended]

181. In § 64.4(c) and (d), remove the word “Administrator” wherever it appears and add, in its place, the words “Federal Insurance Administrator”.

PART 65—IDENTIFICATION AND MAPPING OF SPECIAL HAZARD AREAS

182. The authority citation for part 65 continues to read as follows:

Authority: 42 U.S.C. 4001 et seq.; Reorganization Plan No. 3 of 1978, 43 FR 41943, 3 CFR, 1978 Comp., p. 329; E.O. 12127 of Mar. 31, 1979, 44 FR 19367, 3 CFR, 1979 Comp., p. 376.

§ 65.1 [Amended]

183. In § 65.1, remove the word “Director” and add, in its place, the word “Administrator”.

§ 65.6 [Amended]

184. In § 65.6(a)(12), remove the word “Administrator” and add, in its place, the words “Federal Insurance Administrator”.

§ 65.9 [Amended]

185. In § 65.9, in the introductory text, remove the word “Administrator” and add, in its place, the words “Federal Insurance Administrator”.

§ 65.10 [Amended]

186. In § 65.10(a), remove the word “Administrator” and add, in its place, the words “Federal Insurance Administrator”.

§ 65.12 [Amended]

187. In § 65.12—

a. In the introductory text to paragraphs (a), and in paragraphs (b) and (c), remove the word “Administrator” wherever it appears, and add, in its place, the words “Federal Insurance Administrator”; and

b. In paragraph (b), remove the word “Administrator's” and add, in its place, the words “Federal Insurance Administrator's.”

§ 65.13 [Amended]

188. In § 65.13—

a. In the introductory text, remove the word “Administrator” and add, in its place, the words “Federal Insurance Administrator”; and

b. At the end of paragraph (f), remove the parenthetical which reads, “(Approved by the Office of Management Budget under control number 3067-0147)”.

§ 65.14 [Amended]

189. In § 65.14, in paragraphs (a)(1), (a)(2), (e) introductory text, (e)(1)(ii), (f), (g) and (i), remove the word “Administrator” wherever it appears, and add, in its place, the words “Federal Insurance Administrator”.

PART 66—CONSULTATION WITH LOCAL OFFICIALS

190. The authority citation for part 66 continues to read as follows:

Authority: 42 U.S.C. 4001 et seq.; Reorganization Plan No. 3 of 1978; E.O. 12127.

§ 66.1 [Amended]

191. In § 66.1, in the introductory text to paragraph (c) and in (c)(3), remove the word “Administrator” wherever it appears, and add, in its place, the words “Federal Insurance Administrator”.

§ 66.3 [Amended]

192. In § 66.3—

a. In paragraphs (a) and (b), remove the word “Administrator” wherever it appears, and add, in its place, the words “Federal Insurance Administrator”; and

b. In paragraph (b), remove the word “Administrator's” and add, in its place, the words “Federal Insurance Administrator's”.

§ 66.4 [Amended]

193. In § 64.4, remove the word “Administrator” wherever it appears, and add, in its place, the words “Federal Insurance Administrator”.

§ 66.5 [Amended]

194. In § 66.5—

a. In paragraph (b), remove the word “Administrator” and add, in its place, the words “Federal Insurance Administrator”; and

b. In paragraph (f), remove the words “Chief of the Natural and Technological Hazards Division” and add, in their place, the words “Regional Administrator”.

PART 67—APPEALS FROM PROPOSED FLOOD ELEVATION DETERMINATIONS

195. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.3 [Amended]

196. In § 67.3, the introductory text and paragraphs (e) and (f), remove the word “Administrator” wherever it appears and add, in its place, the words “Federal Insurance Administrator”.

§ 67.4 [Amended]

197. In § 67.4, in the introductory text, remove the word “Administrator” and add, in its place, the words “Federal Insurance Administrator”.

§ 67.5 [Amended]

198. In § 67.5(a), remove the word “Administrator's” wherever it appears, and add, in its place, the words “Federal Insurance Administrator's”.

§ 67.7 [Amended]

199. In § 67.7—

a. In paragraphs (a) and (d), remove the word “Administrator's” wherever it appears, and add, in its place, the words “Federal Insurance Administrator's”; and

b. In paragraphs (b) and (d), remove the word “Administrator” wherever it appears, and add, in its place, the words “Federal Insurance Administrator”.

§ 67.8 [Amended]

200. In § 67.8(a), (b), (c) and (e), remove the word “Administrator” wherever it appears, and add, in its place, the words “Federal Insurance Administrator”.

§ 67.9 [Amended]

201. In § 67.9(a), remove the word “Administrator” and add, in its place, the words “Federal Insurance Administrator”.

§ 67.11 [Amended]

202. In § 67.11, remove the word “Administrator's” and add, in its place, the words “Federal Insurance Administrator's”.

§ 67.12 [Amended]

203. In § 67.12(a) and (b), remove the word “Administrator” and add, in its place, the words “Federal Insurance Administrator”.

PART 68—ADMINISTRATIVE HEARING PROCEDURES

204. The authority citation for part 68 continues to read as follows:

Authority: 42 U.S.C. 4001 et seq.; Reorganization Plan No. 3 of 1978; E.O. 12127.

§ 68.1 [Amended]

205. In § 68.1, remove the word “Administrator's” and add, in its place, the words “Federal Insurance Administrator's”.

§ 68.3 [Amended]

206. In § 68.3, remove the word “Administrator” wherever it appears, and add, in its place, the words “Federal Insurance Administrator”; and remove the word “Administrator's” and add, in its place, the words “Federal Insurance Administrator's”.

§ 68.4 [Amended]

207. In § 68.4(a) and (c), remove the word “Director” and add, in its place, the word “Administrator”.

§ 68.5 [Amended]

208. In § 68.5, remove the word “Administrator” and add, in its place, the words “Federal Insurance Administrator”; and remove the words “General Counsel” and add, in their place, the words “Chief Counsel”.

§ 68.6 [Amended]

209. In § 68.6(a), remove the word “Administrator” and add, in its place, the words “Federal Insurance Administrator”; and remove the words “General Counsel” and add, in their place, the words “Chief Counsel”.

§ 68.7 [Amended]

210. In § 68.7—

a. In paragraphs (b) and (c), remove the word “Administrator” and add, in its place, the words “Federal Insurance Administrator”; and

b. In paragraph (b), remove the words “General Counsel” and add, in their place, the words “Chief Counsel”.

§ 68.8 [Amended]

211. In § 68.8, remove the word “Administrator” and add, in its place, the words “Federal Insurance Administrator”.

§ 68.11 [Amended]

212. In § 68.11, remove the word “Director” wherever it appears, and add, in its place, the word “Administrator”.

PART 70—PROCEDURE FOR MAP CORRECTION

213. The authority citation for part 70 continues to read as follows:

Authority: 42 U.S.C. 4001 et seq.; Reorganization Plan No. 3 of 1978, 43 FR 41943, 3 CFR, 1978 Comp., p. 329; E.O. 12127 of Mar. 31, 1979, 44 FR 19367, 3 CFR, 1979 Comp., p. 376.

§ 70.1 [Amended]

214. In § 70.1, remove the word “Administrator” and add, in its place, the words “Federal Insurance Administrator”.

§ 70.3 [Amended]

215. In § 70.3(a), remove the word “Administrator”, and add, in its place, the words “Federal Insurance Administrator”, and remove the word “Administrator's”, and add, in its place, the words “Federal Insurance Administrator's”.

§ 70.4 [Amended]

216. In § 70.4, in the section heading and the introductory text, remove the word “Director” wherever it appears, and add, in its place, the word “Administrator”.

§ 70.6 [Amended]

217. In § 70.6(a), remove the word “Administrator”, and add, in its place, the words “Federal Insurance Administrator”.

§ 70.7 [Amended]

218. In § 70.7(a), remove the word “Administrator” and add, in its place, the words “Federal Insurance Administrator”.

PART 71—IMPLEMENTATION OF COASTAL BARRIER LEGISLATION

219. The authority citation for part 71 continues to read as follows:

Authority: 42 U.S.C. 4001, et seq.; Reorganization Plan No. 3 of 1978, 3 CFR, 1978 Comp., p. 329; E.O. 12127, 44 FR 19367, 3 CFR, 1979 Comp., p. 376; 42 U.S.C. 4028; secs. 9 and 14, Pub. L. 101-591, 42 U.S.C. 4028(b).

§ 71.4 [Amended]

220. At the end of § 71.4(h), remove the parenthetical which reads, “(Approved by the Office of Management and Budget under control number 3067-0120).”

PART 73—IMPLEMENTATION OF SECTION 1316 OF THE NATIONAL FLOOD INSURANCE ACT OF 1968

221-222. The authority citation for part 73 continues to read as follows:

Authority: 42 U.S.C. 4001 et seq.; Reorganization Plan No. 3 of 1978; E.O. 12127.

§ 73.3 [Amended]

223. In § 73.3(a), (b) and (c), remove the word “Administrator” wherever it appears and add, in its place, the words “Federal Insurance Administrator”.

§ 73.4 [Amended]

224. In § 73.4(a) and (b), remove the word “Administrator” wherever it appears and add, in its place, the words “Federal Insurance Administrator”.

PART 75—EXEMPTION OF STATE-OWNED PROPERTIES UNDER SELF-INSURANCE PLAN

225. The authority citation for part 75 continues to read as follows:

Authority: 42 U.S.C. 4001 et seq.; Reorganization Plan No. 3 of 1978, 43 FR 41943, 3 CFR, 1978 Comp., p. 329; E.O. 12127 of Mar. 31, 1979, 44 FR 19367, 3 CFR, 1979 Comp., p. 376.

§ 75.1 [Amended]

226. In § 75.1, remove the word “Administrator” and add, in its place, the words “Federal Insurance Administrator”, and remove the word “Administrator's”, and add, in its place, the words “Federal Insurance Administrator's”.

§ 75.10 [Amended]

227. In § 75.10, remove the word “Administrator” wherever it appears, and add, in its place, the words “Federal Insurance Administrator”.

§ 75.11 [Amended]

228. In § 75.1, in paragraphs (a)(4) and (b), remove the word “Administrator” wherever it appears, and add, in its place, the words “Federal Insurance Administrator”.

§ 75.13 [Amended]

229. In § 75.13—

a. In the section heading, remove the word “Director”, and add, in its place, the words “Federal Insurance Administrator”; and

b. In paragraphs (a), (b), (c) and (d), remove the word “Administrator” wherever it appears, and add, in its place, the words “Federal Insurance Administrator”.

§ 75.14 [Amended]

230. In § 75.14, remove the word “Administrator”, and add, in its place, the words “Federal Insurance Administrator”.

PART 78—FLOOD MITIGATION ASSISTANCE

231. The authority citation for part 78 continues to read as follows:

Authority: 6 U.S.C. 101; 42 U.S.C. 4001 et seq.; 42 U.S.C. 4104c, 4104d; Reorganization Plan No. 3 of 1978, 43 FR 41943, 3 CFR, 1978 Comp., p. 329; E.O. 12127, 44 FR 19367, 3 CFR, 1979 Comp., p. 376.; E.O. 12148, 44 FR 43239, 3 CFR, 1979 Comp., p. 412; E.O. 13286, 68 FR 10619, 3 CFR, 2003 Comp., p. 166.

§ 78.3 [Amended]

232. In § 78.3—

a. In paragraph (a) introductory text, remove the word “Director” and add, in its place, the word “Administrator”; and remove the words “Regional Director” and add, in their place, the words “Regional Administrator”;

b. In paragraphs (b)(3) and (b)(4), remove the words “Regional Director” and add, in their place, the words “Regional Administrator”; and

c. In paragraph (c)(4), remove the words “parts 13 and 14” and add, in their place, the words “part 13”.

§ 78.4 [Amended]

233. In § 78.4(b), remove the words “Regional Director” and add, in their place, the words “Regional Administrator”.

§ 78.6 [Amended]

234. In § 78.6, remove the words “Regional Director” wherever they appear, and add, in their place, the words “Regional Administrator”.

§ 78.8 [Amended]

235. In § 78.8(a), remove the word “Director” wherever it appears, and add, in its place, the word “Administrator”.

§ 78.10 [Amended]

236. In § 78.10, remove the words “Regional Director” and add, in their place, the words “Regional Administrator”.

§ 78.13 [Amended]

237. In § 78.13(b), remove the words “parts 13 and 14” and add, in their place, the words “part 13”.

§ 78.14 [Amended]

238. In § 78.14, remove the words “Regional Director” wherever they appear, and add, in their place, the words “Regional Administrator”.

PART 150—PUBLIC SAFETY AWARDS TO PUBLIC SAFETY OFFICERS

239-240. The authority citation for part 150 continues to read as follows:

Authority: Federal Fire Prevention and Control Act of 1974, sec. 15, 15 U.S.C. 2214; Reorg. Plan No. 3 of 1978, 3 CFR, 1978 Comp., p. 329, and E.O. 12127, dated Mar. 31, 1979, 3 CFR, 1979 Comp., p. 376.

§ 150.1 [Amended]

241. In § 150.1, remove the word “Director” wherever it appears, and add, in its place, the word “Administrator”.

§ 150.2 [Amended]

242. In § 150.2, in the definitions for “Distinguished Public Safety Service Award” and “Joint Board”, remove the word “Director” wherever it appears, and add, in its place, the word “Administrator”.

§ 150.3 [Amended]

243. In § 150.3(e), remove the word “Director”, and add, in its place, the word “Administrator”; and at the end of the paragraph remove the words, “Approved by the Office of Management and Budget under Control No. 3067-0150.”.

§ 150.4 [Amended]

244. In paragraph § 150.4(a) introductory text, after the words “President's Award”, remove the word “of”, and add, in its place, the word “or”.

§ 150.5 [Amended]

245. In § 150.5(a) and (d), remove the word “Director” wherever it appears, and add, in its place, the word “Administrator”.

§ 150.7 [Amended]

246. In § 150.7(b) and (d), remove the word “Director” wherever it appears, and add, in its place, the word “Administrator”.

§ 150.8 [Amended]

247. In § 150.8(b), remove the word “Director” wherever it appears, and add, in its place, the word “Administrator”.

PART 151—REIMBURSEMENT FOR COSTS OF FIREFIGHTING ON FEDERAL PROPERTY

248. The authority citation for part 151 continues to read as follows:

Authority: Secs. 11 and 21(b)(5), Federal Fire Prevention and Control Act of 1974 (15 U.S.C. 2210 and 2218(b)(5)); Reorganization Plan No. 3 of 1978 (3 CFR, 1978 Comp., p. 379) and E.O. 12127, dated Mar. 31, 1979 (3 CFR, 1979 Comp., p. 376).

§ 151.01 [Amended]

249. In § 151.01, remove the word “Director” and add, in its place, the word “Administrator”.

250. Revise § 151.03(c) to read as follows:

§ 151.03 Definitions.

* * * * *

(c) Administrator means the Administrator of the Federal Emergency Management Agency, or his/her designee.

* * * * *

§ 151.11 [Amended]

251. In § 151.11—

a. In the introductory text and in paragraph (g), remove the word “Director” wherever it appears, and add, in its place, the word “Administrator”; and

b. At the end of paragraph (h), remove the parenthetical which reads, “(Approved by Office of Management and Budget under control number 3067-0141)”.

§ 151.12 [Amended]

252. In § 151.12—

a. In the introductory text to paragraph (a), and in paragraphs (b), (b)(2), (c), (d), (e) and (f), remove the word “Director” wherever it appears, and add, in its place, the word “Administrator”; and

b. In paragraphs (d) and (e), remove the word “Director's” wherever it appears, and add, in its place, the word “Administrator's”.

§ 151.13 [Amended]

253. In § 151.13—

a. In paragraphs (a) and (b), remove the word “Director” wherever it appears, and add, in its place, the word “Administrator”; and

b. In paragraph (b), remove the word “Director's” and add, in its place, the word “Administrator's”.

§ 151.14 [Amended]

254. In § 151.14, remove the word “Director” and add, in its place, the word “Administrator”.

§ 151.22 [Amended]

255. In § 151.22, remove the word “Director” wherever it appears, and add, in its place, the word “Administrator”.

PART 152—ASSISTANCE TO FIREFIGHTERS GRANT PROGRAM

256. The authority citation for part 152 continues to read as follows:

Authority: Federal Fire Protection and Control Act, 15 U.S.C. 2201 et seq.

§ 152.4 [Amended]

257. In § 152.4(b)(8), remove the words “[NFIRS is under review for approval by the Office of Management and Budget under OMB control number 3067-0161.]”.

§ 152.7 [Amended]

258. In § 152.7(g), after the last sentence, remove the words “[NFIRS is under review for approval by the Office of Management and Budget under OMB control number 3067-0161.]”.

§ 152.9 [Amended]

259. In § 152.9(d), remove the words “Director, Grants Program Office, U.S. Fire Administration, FEMA, 500 C Street, SW., Room 330, Washington, DC 20472”, and add, in their place, the words “Assistant Administrator, Grant Programs Directorate, Assistance to Firefighters Grant Program, FEMA, 800 K Street, NW., South Tower 5th Floor, Washington, DC 20001.”

PART 201—MITIGATION PLANNING

260. The authority citation for part 201 is revised to read as follows:

Authority: Robert T. Stafford Disaster Relief and Emergency Assistance Act, 42 U.S.C. 5121 et seq.; Reorganization Plan No. 3 of 1978, 43 FR 41943, 3 CFR, 1978 Comp., p. 329; Homeland Security Act of 2002, 6 U.S.C. 101; E.O. 12127, 44 FR 19367, 3 CFR, 1979 Comp., p. 376; E.O. 12148, 44 FR 43239, 3 CFR, 1979 Comp., p. 412; E.O. 13286, 68 FR 10619, 3 CFR, 2003 Comp., p. 166.

261. In § 201.2, remove the definition of “Regional Director” and add new definition of “Regional Administrator” in alphabetical order to read as follows:

§ 201.2 Definitions.

* * * * *

Regional Administrator is the administrator of a regional office of FEMA, or his/her designated representative.

* * * * *

§ 201.3 [Amended]

262. In § 201.3—

a. In the introductory text to paragraph (b), remove the words “Regional Director” and add, in their place, the words “Regional Administrator”; and

b. In paragraph (c)(7), remove the word “Director” and add, in its place, the word “Administrator”.

§ 201.4 [Amended]

263. In § 201.4(d), remove the words “Regional Director” and add, in their place, the words “Regional Administrator”.

§ 201.5 [Amended]

264. In § 201.5(c), remove the words “Regional Director” and add, in their place, the words “Regional Administrator”.

§ 201.6 [Amended]

265. In § 201.6(a)(3), remove the words “Regional Director” and add, in their place, the words “Regional Administrator”.

PART 204—FIRE MANAGEMENT ASSISTANCE GRANT PROGRAM

266. The authority citation for part 204 continues to read as follows:

Authority: Robert T. Stafford Disaster Relief and Emergency Assistance Act, 42 U.S.C. 5121-5206; Reorganization Plan No. 3 of 1978, 43 FR 41943, 3 CFR, 1978 Comp., p. 329; E.O. 12127, 44 FR 19367, 3 CFR, 1979 Comp., p. 376; E.O. 12148, 44 FR 43239, 3 CFR, 1979 Comp., p. 412; and E.O. 12673, 54 FR 12571, 3 CFR, 1989 Comp., p. 214.

267. In § 204.3—

a. In the definition of “Declared fire”, remove the words “Associate Director” and add, in their place, the words “Assistant Administrator for the Disaster Assistance Directorate”;

b. In the definition of “Incident period”, remove the words “Regional Director” and add, in their place, the words “Regional Administrator”; and

c. Remove the definitions of “Associate Director” and “Regional Director” and add new definitions of “Assistant Administrator” and “Regional Administrator” in alphabetical order to read as follows:

§ 204.3 Definitions used throughout this part.

* * * * *

Assistant Administrator. The Assistant Administrator for the Disaster Assistance Directorate of FEMA, or his/her designated representative.

* * * * *

Regional Administrator. The administrator of a regional office of FEMA, or his/her designated representative.

* * * * *

§ 204.21 [Amended]

268. In § 204.21(a), remove the words “Associate Director” and add, in their place, the words “Assistant Administrator for the Disaster Assistance Directorate”.

§ 204.22 [Amended]

269. In § 204.22, in the third sentence, remove the words “Regional Director” and add, in their place, the words “Regional Administrator”.

§ 204.23 [Amended]

270. In § 204.23—

a. In paragraph (a), remove the words “Regional Director” and add, in their place, the words “Regional Administrator”;

b. In the introductory text to paragraph (b), remove the words “Associate Director” and add, in their place, the words “Assistant Administrator for the Disaster Assistance Directorate”; and remove the words “Regional Director” and add, in their place, the words “Regional Administrator”;

c. In paragraph (b)(1), remove the words “Regional Director” and add, in their place, the words “Regional Administrator”; and

d. In paragraph (b)(2), remove the words “Regional Director” and add, in their place, the words “Regional Administrator”; and remove the words “Associate Director” and add, in their place, the words “Assistant Administrator for the Disaster Assistance Directorate”.

§ 204.24 [Amended]

271. In § 204.24, remove the words “Associate Director” wherever they appear, and add, in their place, the words “Assistant Administrator for the Disaster Assistance Directorate”; and remove the words “Regional Director” wherever they appear, and add, in their place, the words “Regional Administrator”.

§ 204.25 [Amended]

272. In § 204.25(a), remove the words “Regional Director” and add, in their place, the words “Regional Administrator”.

§ 204.26 [Amended]

273. In § 204.26—

a. In paragraph (a), remove the words “Regional Director” and add, in their place, the words “Regional Administrator”; and remove the words “Associate Director” wherever they appear, and add, in their place, the words “Assistant Administrator for the Disaster Assistance Directorate”; and

b. In paragraph (b), remove the words “Associate Director” wherever they appear, and add, in their place, the words “Assistant Administrator for the Disaster Assistance Directorate”.

§ 204.42 [Amended]

274. In § 204.42—

a. In paragraphs (a)(2) and (e)(2), remove the words “Regional Director” wherever they appear, and add, in their place, the words “Regional Administrator”;

b. In paragraph (e)(2)(i), remove the words “Associate Director” and add, in their place, the words “Assistant Administrator for the Disaster Assistance Directorate”; and remove the words “Regional Director” and add, in their place, the words “Regional Administrator”;

c. In paragraph (e)(2)(ii), in the last sentence, remove the space between the word “resources” and the period;

d. In paragraph (e)(2)(iv), remove the words “Regional Director” and add, in their place, the words “Regional Administrator”; and

e. In paragraph (e)(3), remove the words “Associate Director” and add, in their place, the words “Assistant Administrator for the Disaster Assistance Directorate”; and remove the words “Regional Director” and add, in their place, the words “Regional Administrator”.

§ 204.51 [Amended]

275. In § 204.51(a)(1), (a)(2), (c), paragraph (d) introductory text, and (d)(1)(ii), remove the words “Regional Director” wherever they appear, and add, in their place, the words “Regional Administrator”.

§ 204.52 [Amended]

276. In § 204.52—

a. In paragraphs (a)(2), (a)(3), (a)(4), (b)(1), (b)(2), (c)(1), and (c)(3), remove the words “Regional Director” wherever they appear, and add, in their place, the words “Regional Administrator”; and

b. In paragraph (b)(1), remove the word “Director's” and add, in its place, the word “Administrator's”.

§ 204.54 [Amended]

277. In § 204.54—

a. In paragraphs (a) and (b)(1), remove the words “Regional Director” wherever they appear, and add, in their place, the words “Regional Administrator”;

b. In paragraph (b)(2), remove the words “Regional Director's” wherever they appear, and add, in their place, the words “Regional Administrator's”; and remove the words “Associate Director” and add, in their place, the words “Assistant Administrator for the Disaster Assistance Directorate”;

c. In paragraph (c)(2), remove the words “Regional Director”, and add, in their place, the words “Regional Administrator”;

d. In paragraph (c)(3), remove the words “Regional Director” wherever they appear, and add, in their place, the words “Regional Administrator”; and remove the words “Associate Director” wherever they appear, and add, in their place, the words “Assistant Administrator for the Disaster Assistance Directorate”;

e. In paragraph (d), remove the words “Regional Director” wherever they appear, and add, in their place, the words “Regional Administrator”; and

f. In paragraphs (d) and (e), remove the words “Associate Director” wherever they appear, and add, in their place, the words “Assistant Administrator for the Disaster Assistance Directorate”.

PART 206—FEDERAL DISASTER ASSISTANCE FOR DISASTERS DECLARED ON OR AFTER NOVEMBER 23, 1988

278. The authority citation for part 206 is revised to read as follows:

Authority: Robert T. Stafford Disaster Relief and Emergency Assistance Act, 42 U.S.C. 5121 through 5207; Reorganization Plan No. 3 of 1978, 43 FR 41943, 3 CFR, 1978 Comp., p. 329; Homeland Security Act of 2002, 6 U.S.C. 101; E.O. 12127, 44 FR 19367, 3 CFR, 1979 Comp., p. 376; E.O. 12148, 44 FR 43239, 3 CFR, 1979 Comp., p. 412; and E.O. 13286, 68 FR 10619, 3 CFR, 2003 Comp., p. 166.

§ 206.1 [Amended]

279. In § 206.1(a), remove the word “Director” and add, in its place, the word “Administrator”.

§ 206.2 [Amended]

280. In § 206.2—

a. Remove and reserve paragraph (a)(3);

b. In paragraph (a)(7), remove the word “Director” wherever it appears, and add, in its place, the word “Administrator”;

c. In paragraph (a)(8), remove the words “Regional Director” wherever they appear, and add, in their place, the words “Regional Administrator”;

d. In paragraph (a)(11), remove the word “Director” wherever it appears, and add, in its place, the word “Administrator”; and remove the words “or alternatively the Associate Director,”;

e. In paragraph (a)(18), remove the word “Director” wherever it appears and add, in its place, the word “Administrator”; and remove the words “Associate Director” wherever they appear, and add, in their place, the words “Assistant Administrator for the Disaster Operations Directorate; and

f. In paragraph (a)(21), remove the words “A director” and add, in its place, the words “An administrator”; and remove the words “Regional Director” wherever they appear, and add, in their place, the words “Regional Administrator”.

§ 206.5 [Amended]

281. In § 206.5—

a. In paragraphs (a), (b) and (c), remove the words “Associate Director or the Regional Director” wherever they appear, and add, in their place, the words “Administrator, Assistant Administrator for the Disaster Operations Directorate, or the Regional Administrator”;

b. In paragraph (d), remove the words “Regional Director” and add, in their place, the words “Regional Administrator”;

c. In paragraph (e), remove the words “Associate Director” and add, in their place, the words “Assistant Administrator for the Disaster Operations Directorate”; and

d. In paragraph (f), remove the words “Associate Director or Regional Director” and add, in their place, the words “Administrator, Assistant Administrator for the Disaster Operations Directorate, or the Regional Administrator”.

§ 206.6 [Amended]

282. In § 206.6(a), remove the words “Associate Director or the Regional Administrator”, and add, in their place, the words “Administrator, Assistant Administrator for the Disaster Operations Directorate, or the Regional Administrator”.

§ 206.8 [Amended]

283. In § 206.8—

a. In paragraphs (a), (b), (c) introductory text, (c)(2), (c)(3), (c)(4) and (c)(7), remove the words “Associate Director” and add, in their place, the words “Administrator, Assistant Administrator for the Disaster Assistance Directorate, or the Regional Administrator”; and

b. In paragraph (d)(4), remove the words “Regional Director” and add, in their place, the words “Regional Administrator”.

§ 206.12 [Amended]

284. In § 206.12—

a. In paragraph (a), remove the words “Regional Director” wherever they appear, and add, in their place, the words “Regional Administrator”; and

b. In paragraph (b), remove the words “Associate Director” wherever they appear, and add, in their place, the word “Administrator”.

§ 206.13 [Amended]

285. In § 206.13—

a. In paragraph (a), remove the words “Associate Director” and add, in their place, the word “Administrator”; and

b. In paragraph (b) remove the words “Associate Director or Regional Director” wherever they appear, and add, in their place, the word “Administrator”; and remove the words “Associate Director or the Regional Director” and add, in their place, the word “Administrator”.

§ 206.14 [Amended]

286. In § 206.14—

a. In paragraphs (a), (b), (c), and (d), remove the words “this Act” wherever they appear, and add, in their place, the words “the Stafford Act”; and

b. In paragraph (c), remove the words “Associate Director” and add, in their place, the words “Office of Chief Counsel”.

§ 206.16 [Amended]

287. In § 206.16—

a. In paragraph (a), remove the words “part 14” and add, in their place, the words “part 13”; remove the words “Associate Director or Regional Director” and add, in their place, the words “Administrator, the Assistant Administrator for the Disaster Operations Directorate, or the Regional Administrator”; and

b. In paragraph (b), remove the words “Regional Director, the Associate Director,” and add, in their place, the words “Administrator, the Regional Administrator, the Assistant Administrator for the Disaster Assistance Directorate, the DHS Inspector General,”.

§ 206.33 [Amended]

288. In § 206.33(a) and (d), remove the words “Regional Director” and add, in their place, the words “Regional Administrator”.

§ 206.34 [Amended]

289. In § 206.34—

a. In paragraph (a), remove the words “Associate Director” and add, in their place, the words “Assistant Administrator for the Disaster Assistance Directorate”;

b. In paragraphs (b) and (c), remove the words “Regional Director” wherever they appear, and add, in their place, the words “Regional Administrator”; and remove the words “Associate Director” wherever they appear, and add, in their place, the words “Assistant Administrator for the Disaster Assistance Directorate”;

c. In paragraph (e), remove the words “Associate Director” and add, in their place, the words “Assistant Administrator for the Disaster Assistance Directorate”; and

d. In paragraph (g), remove the words “Regional Director” wherever they appear, and add, in their place, the words “Regional Administrator”.

§ 206.35 [Amended]

290. In § 206.35(a) and (d), remove the words “Associate Director” and add, in their place, the words “Assistant Administrator for the Disaster Assistance Directorate”; and remove the words “Regional Director” wherever they appear, and add, in their place, the words “Regional Administrator”.

§ 206.36 [Amended]

291. In § 206.36—

a. In paragraph (a), remove the words “Associate Director” and add, in their place, the words “Assistant Administrator for the Disaster Assistance Directorate”; and remove the words “Regional Director” and add, in their place, the words “Regional Administrator”;

b. In paragraph (d), remove the words “Regional Director” and add, in their place, the words “Regional Administrator”; remove the words “Associate Director” and add, in their place, the words “Assistant Administrator for the Disaster Assistance Directorate”; and remove the word “Director” and add, in its place, the word “Administrator”.

§ 206.37 [Amended]

292. In § 206.37—

a. In paragraph (a), remove the words “Regional Director” and add, in their place, the words “Regional Administrator”;

b. In paragraph (b), remove the words “Regional Director” and add, in their place, the words “Regional Administrator”; and remove the words “Associate Director” and add, in their place, the words “Assistant Administrator for the Disaster Assistance Directorate”; and

c. In the introductory text to paragraph (c), remove the word “Director” and add, in its place, the word “Administrator”.

§ 206.39 [Amended]

293. In § 206.39—

a. In paragraphs (a) and (b), remove the word “Director” wherever it appears and add, in its place, the word “Administrator”; and

b. In paragraph (c), remove the words “Regional Director or Associate Director” and add, in their place, the words “Regional Administrator or the Assistant Administrator for the Disaster Assistance Directorate”.

§ 206.40 [Amended]

294. In 206.40(a), (b), (c) and (d), remove the words “Associate Director” wherever they appear, and add, in their place, the words “Assistant Administrator for the Disaster Assistance Directorate”.

§ 206.41 [Amended]

295. In § 206.41—

a. In paragraph (a), remove the words “Director, or in his absence, the Deputy Director, or alternately, the Associate Director” and add, in their place, the words “Administrator or Deputy Administrator”; and

b. In paragraph (b), remove the words “Regional Director” wherever they appear, and add, in their place, the words “Regional Administrator”.

§ 206.44 [Amended]

296. In § 206.44(a) and (c), remove the words “Regional Director” wherever they appear, and add, in their place, the words “Regional Administrator”.

§ 206.45 [Amended]

297. In § 206.45, in the introductory text to paragraph (a) and in paragraph (b)(1), remove the words “Associate Director” wherever they appear, and add, in their place, the words “Assistant Administrator for the Disaster Assistance Directorate together with the Chief Financial Officer”.

§ 206.46 [Amended]

298. In § 206.46—

a. In paragraph (a), remove the words “Regional Director” wherever they appear, and add, in their place, the words “Regional Administrator”;

b. In paragraphs (b) and (c), remove the words “Regional Director” wherever they appear, and add, in their place, the words “Regional Administrator”; and remove the words “Associate Director” wherever they appear and add, in their place, the words “Assistant Administrator for the Disaster Assistance Directorate”; and

c. In paragraph (d), remove the words “Associate Director”, and add, in their place, the words “Assistant Administrator for the Disaster Assistance Directorate”.

§ 206.62 [Amended]

299. In § 206.62—

a. In the introductory text, remove the words “Associate Director or Regional Director” and add, in their place, the words “Regional Administrator” or “Administrator”; and

b. In paragraph (f), after the word “Act”, remove the period.

§ 206.66 [Amended]

300. In § 206.66, in the introductory text, remove the words “Associate Director” and add, in their place, the word “Administrator”.

§ 206.67 [Amended]

301. In § 206.67, remove the word “Director” and add, in its place, the word “Administrator”.

§ 206.101 [Amended]

302. In § 206.101—

a. In paragraphs (c)(5), (e)(1), (e)(2), (f)(1)(i)(A), (f)(1)(i)(E), (f)(2)(vi), (g)(1)(ii), remove the words “Regional Director” wherever they appear and add, in their place, the words “Regional Administrator”;

b. In paragraph (g)(2)(i), remove the words “Regional Director” and add, in their place, the words “Regional Administrator”; and remove the words “Associate Director” and add, in their place, the words “Assistant Administrator for the Disaster Assistance Directorate”;

c. In paragraph (g)(2)(ii), remove the words “Associate Director” and add, in their place, the words “Assistant Administrator for the Disaster Assistance Directorate”;

d. In paragraph (g)(2)(iii), remove the words “Regional Director” and add, in their place, the words “Regional Administrator”; and remove the words “Associate Director” and add, in their place, the words “Assistant Administrator for the Disaster Assistance Directorate”;

e. In paragraphs (g)(3) and (g)(4)(i)(A), remove the words “Regional Director” wherever they appear and add, in their place, the words “Regional Administrator”;

f. In paragraph (g)(4)(i)(C), remove the words “Associate Director” and add, in their place, the words “Assistant Administrator for the Disaster Assistance Directorate”;

g. In paragraph (g)(4)(ii)(B), remove the words “Regional Director” and add, in their place, the words “Regional Administrator”;

h. In paragraph (g)(4)(ii)(C), remove the words “Regional Director” and add, in their place, the words “Regional Administrator”; and remove the words “Associate Director” and add, in their place, the words “Assistant Administrator for the Disaster Assistance Directorate”;

i. In paragraphs (g)(4)(iii)(C), (g)(4)(iii)(N), (i), (k)(2), (m)(1), (m)(2), (m)(3) introductory text, (m)(3)(ii)(E)(1) and (m)(3)(ii)(F)(2), remove the words “Regional Director” wherever they appear, and add, in their place, the words “Regional Administrator”;

j. In paragraph (n)(1), remove the words “Associate Director” wherever they appear, and add, in their place, the words “Assistant Administrator for the Disaster Assistance Directorate”;

k. In paragraph (n)(2)(i) introductory text, remove the words “Regional Director”, and add, in their place, the words “Regional Administrator”;

l. In paragraphs (n)(2)(i)(C), (n)(2)(ii) and (n)(2)(iii)(B), remove the words “Associate Director” and add, in their place, the words “Assistant Administrator for the Disaster Assistance Directorate”;

m. In paragraph (n)(2)(iii)(C), remove the words “Regional Director” and add, in their place, the words “Regional Administrator”;

n. In paragraph (n)(2)(iv)(B), remove the word “Director” and add, in its place, the word “Administrator”;

o. In the introductory text to paragraph (n)(3) and in paragraph (n)(3)(ii), remove the words “Associate Director” and add, in their place, the words “Assistant Administrator for the Disaster Assistance Directorate”;

p. In paragraphs (o), (p) and the introductory text to paragraph (s), remove the words “Regional Director” wherever they appear, and add, in their place, the words “Regional Administrator”; remove the words “Associate Director” wherever they appear and add, in their place, the words “Assistant Administrator for the Disaster Assistance Directorate”; and remove the words “Regional Director's” and add, in their place, the words “Regional Administrator's”; and

q. In paragraphs (s)(1)(ii), (s)(1)(iii), (s)(2) and (s)(2)(iv), remove the words “Regional Director” wherever they appear and add, in their place, the words “Regional Administrator”;

r. In the introductory text to paragraph (s)(3), remove the words “Regional Director” and add, in their place, the words “Regional Administrator”; and remove the words “Associate Director” and add, in their place, the words “Assistant Administrator for the Disaster Assistance Directorate”;

s. In paragraph (s)(3)(i), remove the words “Regional Director” and add, in their place, the words “Regional Administrator”;

t. In paragraph (s)(5), remove the words “Regional Director” and add, in their place, the words “Regional Administrator”; and remove the words “Associate Director” and add, in their place, the words “Assistant Administrator for the Disaster Assistance Directorate”;

u. In paragraphs (s)(6), (s)(7) and (s)(8), remove the words “Regional Director” and add, in their place, the words “Regional Administrator”; and

v. After the text of paragraph (s)(9), remove the parenthetical which reads,

(Approved by the Office of Management and Budget under OMB control numbers 3067-0009 and 3067-0043)”.

§ 206.110 [Amended]

303. In § 206.110(e), remove the words “Associate Director (AD)” and add, in their place, the words “Assistant Administrator for the Disaster Assistance Directorate”.

§ 206.111 [Amended]

304. In § 206.111, in the definition of “Financial ability”, remove the words “Regional Director” and add, in their place, the words “Regional Administrator”.

§ 206.112 [Amended]

305. In § 206.112(b), remove the words “Regional Director” and add, in their place, the words “Regional Administrator”.

§ 206.115 [Amended]

306. In § 206.115(c) and (f), remove the words “Regional Director” and add, in their place, the words “Regional Administrator”.

§ 206.117 [Amended]

307. In § 206.117—

a. In paragraphs (b)(1)(i)(A), (b)(1)(i)(D) and (b)(1)(ii)(B), (b)(1)(ii)(E)(1), (b)(1)(ii)(E)(2), (b)(1)(ii)(E)(3), (b)(1)(ii)(E)(4) and (b)(1)(ii)(H), remove the words “Regional Director” wherever they appear, and add, in their place, the words “Regional Administrator”;

b. In paragraph (b)(3), remove the words “Associate Director” wherever they appear, and add, in their place, the words “Assistant Administrator for the Disaster Assistance Directorate”.

§ 206.120 [Amended]

308. In § 206.120—

a. In paragraphs (b), (c)(1), (c)(3) and (c)(3)(i), remove the words “Regional Director” wherever they appear, and add, in their place, the words “Regional Administrator”;

b. In paragraph (d)(3)(ix), remove the words “FEMA Office of Inspector General” and add, in their place, the words “DHS Office of Inspector General”;

c. In paragraph (d)(3)(x), remove the words “FEMA OIG” wherever they appear, and add, in their place, the words “DHS OIG”;

d. In paragraph (e)(1), remove the words “Regional Director”, and add, in their place, the words “Regional Administrator”; and

e. In paragraph (f)(1), remove the words “FEMA Associate Director” and add, in their place, the words “Assistant Administrator for the Disaster Assistance Directorate”.

§ 206.131 [Amended]

309. In § 206.131—

a. In paragraph (d)(1)(iii)(B), remove the words “Regional Director” wherever they appear, and add, in their place, the words “Regional Administrator”; remove the words “Associate Director”, and add, in their place, the words “Assistant Administrator for the Disaster Assistance Directorate”; and remove the word “Director” and add, in its place, the words “Assistant Administrator for Mitigation”;

b. In paragraph (d)(1)(iv), remove the words “Regional Director”, and add, in their place, the words “Regional Administrator”;

c. In paragraph (d)(2)(viii), remove the words “Regional Director” wherever they appear, and add, in their place, the words “Regional Administrator”; and remove the words “Associate Director” wherever they appear, and add, in their place, the words “Assistant Administrator for the Disaster Assistance Directorate ”;

d. In paragraphs (d)(4), (e)(1)(ii)(J) and (e)(1)(ii)(M), remove the words “Regional Director” wherever they appear, and add, in their place, the words “Regional Administrator”;

e. In paragraph (e)(1)(vii), remove the words “General Accounting Office”, and add, in their place, the words “Government Accountability Office”;

f. In paragraphs (e)(2), (e)(3) and in the introductory text to paragraph (f), remove the words “Regional Director” wherever they appear, and add, in their place, the words “Regional Administrator”;

g. In paragraph (f)(5), remove the words “Associate Director” and add, in their place, the words “Assistant Administrator for the Disaster Assistance Directorate”;

h. In paragraphs (f)(6), (g)(1) introductory text, (g)(1)(iii), (g)(2), (g)(3), (h), (j)(1)(iii), (j)(1)(iv), (j)(2), (k)(1) and (k)(2), remove the words “Regional Director” wherever they appear, and add, in their place, the words “Regional Administrator”;

i. In paragraph (i), remove the words “part 14, Administration of Grants; Audits of State and Local Governments, which implements OMB Circular A-128 regarding audits” and add, in their place, the words “part 13”;

j. In paragraph (j)(2), remove the words “Associate Director” and add, in their place, the words “Assistant Administrator for the Disaster Assistance Directorate”;

k. In paragraph (k)(3), remove the words “Regional Director” wherever they appear, and add, in their place, the words “Regional Administrator”; and remove the words “Associate Director” wherever they appear, and add, in their place, the words “Assistant Administrator for the Disaster Assistance Directorate”; and remove the words “Regional Director's” and add, in their place, the words “Regional Administrator's”; and

l. In paragraph (m), remove the words “Regional Director” and add, in their place, the words “Regional Administrator”.

§ 206.151 [Amended]

310. In § 206.151(a) and (b), remove the words “Associate Director” wherever they appear, and add, in their place, the word “Administrator”.

§ 206.164 [Amended]

311. In § 206.164—

a. In paragraphs (a), (b), (c)(3) and (c)(4), and the introductory text to paragraph (c) remove the words “Regional Director” wherever they appear, and add, in their place, the words “Regional Administrator”;

b. In paragraph (c)(4), remove the words “Associate Director” and add, in their place, the words “Assistant Administrator for the Disaster Assistance Directorate”; and

c. In paragraph (d), remove the words “Regional Director” wherever they appear, and add, in their place, the words “Regional Administrator”; and remove the words “Regional Director's” and add, in their place, the words “Regional Administrator's”.

§ 206.171 [Amended]

312. In § 206.171—

a. In paragraph (b)(1), remove the words “Assistant Associate Director” and add, in their place, the words “Assistant Administrator”; and remove the words “Office of Disaster Assistance Programs, FEMA” and add, in their place, the words “Disaster Assistance Directorate”;

b. In paragraph (b)(4), remove the words “Associate Director”, and add, in their place, the words “Administrator or Deputy Administrator”;

c. In paragraph (b)(6), remove the words “Regional Director” and add, in their place, the words “Regional Administrator”;

d. In paragraph (b)(9), remove the words “Regional Director” wherever they appear, and add, in their place, the words “Regional Administrator”;

e. In paragraph (c)(2), remove the words “Regional Director” and add, in their place, the words “Regional Administrator”; and remove the words “Assistant Associate Director” and add, in their place, the words “Assistant Administrator for the Disaster Assistance Directorate”;

f. In paragraph (c)(3), remove the words “Assistant Associate Director” and add, in their place, the words “Assistant Administrator for the Disaster Assistance Directorate”;

g. In paragraph (e), the introductory text to paragraph(f), and paragraphs (f)(1) introductory text, (f)(1)(ii), (f)(1)(iii), (f)(3), and (f)(4)(iii), remove the words “Regional Director” wherever they appear, and add, in their place, the words “Regional Administrator”;

h. In paragraph f(5)(i), remove the words “Regional Director's” and add, in their place, the words “Regional Administrator's”;

i. In paragraph (f)(5)(ii), remove the words “Regional Director's” wherever they appear, and add, in their place, the words “Regional Administrator's”; and remove the words “Assistant Associate Director” wherever they appear, and add, in their place, the words “Assistant Administrator for the Disaster Assistance Directorate's”; and remove the words “Regional Director” and add, in their place, the words “Regional Administrator”;

j. In paragraph (g)(1), remove the words “Regional Director” and add, in their place, the words “Regional Administrator”; and remove the words “Assistant Associate Director” and add, in their place, the words “Assistant Administrator for the Disaster Assistance Directorate”;

k. In paragraph (g)(1)(ii), remove the words “Assistant Associate Director” and add, in their place, the words “Assistant Administrator for the Disaster Assistance Directorate”;

l. In paragraph (g)(1)(iii), remove the words “Regional Director” and add, in their place, the words “Regional Administrator”; and remove the words “Assistant Associate Director” and add, in their place, the words “Assistant Administrator for the Disaster Assistance Directorate”;

m. In the introductory text to paragraph (g)(3), and in paragraphs (g)(3)(i) and (g)(3)(iv), remove the words “Regional Director” wherever they appear and add, in their place, the words “Regional Administrator”;

n. In paragraphs (g)(4)(i) and (g)(5), remove the words “Regional Director” wherever they appear and add, in their place, the words “Regional Administrator”; and remove the words “Assistant Associate Director” wherever they appear, and add, in their place, the words “Assistant Administrator for the Disaster Assistance Directorate”; and remove the words “Assistant Associate Director's” and add, in their place, the words “Assistant Administrator for the Disaster Assistance Directorate's”;

o. In the introductory text to paragraph (i)(1), remove the words “Regional Director” and add, in their place, the words “Regional Administrator”;

p. In paragraph (i)(1)(ii)(C), remove the words “Regional Director's” and add, in their place, the words “Regional Administrator's”; and remove the words “Assistant Associate Director” wherever they appear, and add, in their place, the words “Assistant Administrator for the Disaster Assistance Directorate”;

q. In paragraphs (i)(2)(i) and (i)(2)(ii), remove the words “Regional Director” and add, in their place, the words “Regional Administrator”;

r. In paragraphs (i)(2)(v) and (i)(2)(vii), remove the words “Regional Director” wherever they appear, and add, in their place, the words “Regional Administrator”; and remove the words “Assistant Associate Director” wherever they appear, and add, in their place, the words “Assistant Administrator for the Disaster Assistance Directorate”;

s. In paragraphs (i)(2)(ix) and the introductory text to paragraph (i)(3), remove the words “Assistant Associate Director” wherever they appear, and add, in their place, the words “Assistant Administrator for the Disaster Assistance Directorate”;

t. In paragraphs (i)(3)(i) and (i)(3)(iv), remove the words “Regional Director” and add, in their place, the words “Regional Administrator”; and

u. In paragraph (k), remove the words “Associate Director, the Regional Director, the FEMA” and add, in their place, the words “Assistant Administrator for the Disaster Assistance Directorate, the Regional Administrator, the DHS”.

§ 206.181 [Amended]

313. In § 206.181—

a. In paragraph (c)(1), remove the words “Assistant Associate Director, Office of Disaster Assistance Programs, FEMA” and add, in their place, the words “Assistant Administrator for the Disaster Assistance Directorate”;

b. In paragraph (c)(2), remove the words “Regional Director” and add, in their place, the words “Regional Administrator”; and remove the words “Assistant Associate Director” wherever they appear, and add, in their place, the words “Assistant Administrator for the Disaster Assistance Directorate”;

c. In paragraph (c)(6), remove the words “Assistant Associate Director” and add, in their place, the words “Assistant Administrator for the Disaster Assistance Directorate”;

d. In paragraph (d)(1), remove the words “Assistant Associate Director, Office of Disaster Assistance Programs,” and add, in their place, the words “Assistant Administrator for the Disaster Assistance Directorate”;

e. In paragraph (d)(2), remove the words “Comptroller of FEMA” and add, in their place, the words “Chief Financial Officer”; and remove the words “Assistant Associate Director” and add, in their place, the words “Assistant Administrator for the Disaster Assistance Directorate;

f. In paragraphs (d)(3) and (d)(4), remove the words “Regional Director” wherever they appear, and add, in their place, the words “Regional Administrator”; and remove the words “Assistant Associate Director” wherever they appear, and add, in their place, the words “Assistant Administrator for the Disaster Assistance Directorate”; and remove the word “Comptroller” wherever they appear, and add, in its place the words “Chief Financial Officer”;

g. In paragraph (d)(5), remove the words “Assistant Associate Director” and add, in their place, the words “Assistant Administrator for the Disaster Assistance Directorate”; and remove the word “Comptroller”, and add, in its place the words “Chief Financial Officer”; and

h. In paragraph (e), remove the words “Inspector General of FEMA shall” and add, in their place, the words “Inspector General of DHS may”; remove the word “Comptroller”, and add, in its place the words “Chief Financial Officer”; and remove the words “Associate Director, State and Local Programs and Support” and add, in their place, the word “Administrator”.

§ 206.191 [Amended]

314. In § 206.191—

a. In paragraphs (e)(1)(i), (e)(2) introductory text, (e)(2)(iii), (e)(3), (e)(4) introductory text, (e)(4)(i), (e)(4)(ii) and (e)(5), remove the words “Regional Director” wherever they appear, and add, in their place, the words “Regional Administrator”; and in paragraph (e)(4)(ii), remove the words “Regional Director's” and add, in their place the words “Regional Administrator's”; and

b. In paragraph (f), remove the words “FEMA's Debt Collection Regulations (44 CFR part 11, subpart C)” and add in their place, the words “the Department of Homeland Security's Debt Collection Regulations (6 CFR part 11—Claims)”.

§ 206.201 [Amended]

315. In § 206.201(j), remove the words “Regional Director” and add, in their place, the words “Regional Administrator”.

§ 206.202 [Amended]

316. In § 206.202—

a. In paragraph (a), remove the words “13, 14, and 206” and add, in their place, the words “13 and 206”;

b. In paragraphs (c) and (e)(1), remove the words “Regional Director” wherever they appear, and add, in their place, the words “Regional Administrator”; and

c. In paragraphs (f)(1) and (f)(2), remove the word “RD” wherever it appears, and add, in its place, the words “Regional Administrator”.

§ 206.203 [Amended]

317. In § 206.203(d)(2) introductory text and (d)(2)(v), remove the word “RD” wherever it appears, and add, in its place, the words “Regional Administrator”.

§ 206.204 [Amended]

318. In § 206.204—

a. In paragraph (d) introductory text, (d)(2), (e)(2) and (f), remove the word “RD” wherever it appears, and add, in its place, the words “Regional Administrator”; and

b. In paragraphs (d)(2) and (e)(2), remove the word “RD's” and add, it its place, the word “Regional Administrator's”.

§ 206.205 [Amended]

319. In § 206.205(b)(1) and (b)(2), remove the word “RD” wherever it appears, and add, in its place, the words “Regional Administrator”.

§ 206.206 [Amended]

320. In § 206.206—

a. In paragraphs (a) and (b)(1), remove the words “Regional Director” wherever they appear, and add, in their place, the words “Regional Administrator”;

b. In paragraph (b)(2), remove the words “Associate Director/Executive Associate Director for Response and Recovery”, and add, in their place, the words “Assistant Administrator for the Disaster Assistance Directorate”; and remove the words “Regional Director's” and add, in their place, the words “Regional Administrator's”;

c. In paragraph (c)(2), remove the words “Regional Director” and add, in their place, the words “Regional Administrator”;

d. In paragraphs (c)(3) and (d), remove the words “Associate Director/Executive Associate Director” wherever they appear, and add, in their place, the words “Assistant Administrator for the Disaster Assistance Directorate”; and remove the words “Regional Director” wherever they appear, and add, in their place, the words “Regional Administrator”; and

e. In paragraph (e)(2), remove the words “Associate Director/Executive Associate Director”, and add, in their place, the words “Assistant Administrator for the Disaster Assistance Directorate”; and remove the word “Director” and add, in its place, the word “Administrator”.

§ 206.207 [Amended]

321. In § 206.207—

a. In paragraphs (b)(1)(iii)(H) and (c)(1), remove the number “14” and add, in its place, the number “13”;

b. In paragraphs (b)(2) and (b)(3), remove the word “RD” wherever it appears, and add, in its place, the words “Regional Administrator”; and

c. In paragraph (c)(2), remove the words “14, Appendix A, para. 10” and add, in their place, the number “13”.

§ 206.208 [Amended]

322. In § 206.208—

a. In paragraphs (b) introductory text, (c)(1), (c)(2), (d) and (e)(1), remove the word “RD” wherever it appears, and add, in its place, the words “Regional Administrator”; and

b. In paragraph (e)(1), remove the word “RD's” and add, in its place, the words “Regional Adminstrator's”.

§ 206.224 [Amended]

323. In § 206.224—

a. In paragraph (a) introductory text, remove the words “Regional Director” and add, in their place, the words “Regional Administrator”; and

b. In paragraph (a)(4), remove the words “Associate Director for Readiness, Response and Recovery”, and add, in their place, the words “Assistant Administrator for the Disaster Assistance Directorate”.

§ 206.225 [Amended]

324. In § 206.225(a)(2), remove the words “Regional Director” and add, in their place, the words “Regional Administrator”.

§ 206.226 [Amended]

325. In § 206.226—

a. In paragraph (c)(2), remove the citation “206.226(b)(1)” and add, in its place, the citation “206.226(c)(1)”;

b. In paragraph (d)(3)(ii), remove the words “This paragraph (b)” and add, in their place, the words “This paragraph (d)”; and

c. In paragraphs (e) introductory text, (g)(1) introductory text, (g)(2), (g)(3), (g)(4) and (g)(5), remove the words “Regional Director” and add, in their place, the words “Regional Administrator”.

§ 206.252 [Amended]

326. In § 206.252—

a. In paragraph (a), remove the word “Director” and add, in its place, the word “Administrator”; and

b. In paragraphs (c) and (d), remove the words “Regional Director” wherever they appear, and add, in their place, the words “Regional Administrator”.

§ 206.253 [Amended]

327. In § 206.253(a), (b)(1), (c), and (d), remove the words “Regional Director” wherever they appear, and add, in their place, the words “Regional Administrator”.

§ 206.345 [Amended]

328. In § 206.345(a) introductory text and (b) introductory text, remove the words “FEMA Regional Director” and add, in their place, the words “Regional Administrator”.

§ 206.346 [Amended]

329. In § 206.346(a) introductory text and (b) introductory text, remove the words “Regional Director” and add, in their place, the words “Regional Administrator”.

§ 206.347 [Amended]

330. In § 206.347—

a. In paragraphs (a) introductory text and (b) introductory text, remove the words “Regional Director” and add, in their place, the words “Regional Administrator”;

b. In paragraph (b)(2), remove the words “Regional Director” and add, in their place, the words “Regional Administrator”; and remove the words “Associate Director, SLPS, or his or her designee” and add, in their place, the words “Director, Office of Environmental Planning and Historic Preservation, Mitigation Directorate”; and

c. In paragraph (c), remove the words “Regional Director” and add, in their place, the words “Regional Administrator”.

§ 206.348 [Amended]

331. In § 206.348—

a. In the introductory text and paragraph (b), remove the words “Regional Director” wherever they appear and add, in their place, the words “Regional Administrator”; and

b. In paragraph (c), remove the words “Regional Director” and add, in their place, the words “Regional Administrator”; remove the words “FEMA Assistant Associate Director for Disaster Assistance Programs (DAP)” and add, in their place, the words “Director, Office of Environmental Planning and Historic Preservation, Mitigation Directorate”; remove the words “Office of General Counsel (OGC)” and add, in their place, the words “Office of Chief Counsel (OCC)”; and remove the words “Assistant Associate Director, DAP” and add in their place the words “Director, Office of Environmental Planning and Historic Preservation, Mitigation Directorate”.

§ 206.349 [Amended]

332. In § 206.349, in the introductory text and paragraph (d), remove the words “Regional Director” and add, in their place, the words “Regional Administrator”.

§ 206.361 [Amended]

333. In § 206.361—

a. In paragraph (a), remove the words “Associate Director, State and Local Programs and Support (the Associate Director)” and add, in their place, the words “Assistant Administrator for the Disaster Assistance Directorate”; and

b. In paragraphs (d), (e) and (g), remove the words “Associate Director” wherever they appear, and add, in their place, the words “Assistant Administrator for the Disaster Assistance Directorate”.

§ 206.362 [Amended]

334. In § 206.362—

a. In paragraph (a), remove the words “Associate Director” and add, in their place, the words “Assistant Administrator for the Disaster Assistance Directorate”;

b. In paragraph (c), remove the words “Associate Director” wherever they appear, and add, in their place, the words “Assistant Administrator for the Disaster Assistance Directorate”; and remove the words “Regional Director” and add, in their place, the words “Regional Administrator”;

c. In paragraph (d), remove the words “Associate Director” and add, in their place, the words “Assistant Administrator for the Disaster Assistance Directorate”; and remove the words “Office of Disaster Assistance Programs in Headquarters, FEMA” and add, in their place, the words “FEMA Finance Center”;

d. In paragraph (e), remove the words “Associate Director” wherever they appear, and add, in their place, the words “Assistant Administrator for the Disaster Assistance Directorate”; and remove the words “Regional Director” and add, in their place, the words “Regional Administrator”; and

e. In paragraph (f), remove the word “Comptroller” and add, in its place, the words “Chief Financial Officer”.

§ 206.363 [Amended]

335. In § 206.363(a)(1), remove the words “Associate Director” and add, in their place, the words “Assistant Administrator for the Disaster Assistance Directorate”.

§ 206.364 [Amended]

336. In § 206.364—

a. In paragraph (a)(2), remove the words “Regional Director” and add, in their place, the words “Regional Administrator”;

b. In paragraphs (c)(1), (c)(2), (d)(2)(i) and (d)(2)(ii), remove the words “Associate Director” wherever they appear, and add, in their place, the words “Assistant Administrator for the Disaster Assistance Directorate”; and

c. At the end of paragraph (d)(2)(ii), remove the words “(Approved by the Office of Management and Budget under Control Number 3067-0034)”.

§ 206.365 [Amended]

337. In § 206.365—

a. In paragraph (b)(2), remove the words “Regional Director” and add, in their place, the words “Regional Administrator”; and remove the words “Associate Director” and add, in their place, the words “Assistant Administrator for the Disaster Assistance Directorate”; and

b. In paragraphs (c)(2) and (c)(3), remove the words “Headquarters, FEMA Office of Disaster Assistance Programs,” and add, in their place, “Disaster Assistance Directorate”.

§ 206.366 [Amended]

338. In § 206.366—

a. In paragraph (a)(1), remove the words “Associate Director” and add, in their place, the words “Assistant Administrator for the Disaster Assistance Directorate”;

b. In paragraph (c) introductory text, remove the words “Regional Director” and add, in their place, the words “Regional Administrator”;

c. In paragraph (c)(2), remove the words “Associate Director” and add, in their place, the words “Assistant Administrator for the Disaster Assistance Directorate”;

d. In paragraph (d)(1), remove the words “Associate Director” and add, in their place, the words “Assistant Administrator for the Disaster Assistance Directorate”; remove the words “Associate Director's” and add, in their place, the words “Associate Administrator's”; and remove the words “Office of the Comptroller” and add, in their place, the words “Chief Financial Officer”;

e. In paragraph (d)(4), remove the words “Associate Director” wherever they appear, and add, in their place, the words “Assistant Administrator for the Disaster Assistance Directorate”; and

f. At the end of the section, remove the words “(Approved by the Office of Management and Budget under Control Number 3067-0026)”.

§ 206.367 [Amended]

339. In § 206.367(b)(1), (b)(4) and (c) introductory text, remove the words “Associate Director” wherever they appear and add, in their place, the words “Assistant Administrator for the Disaster Assistance Directorate”.

§ 206.371 [Amended]

340. In § 206.371(a), (c), (d) and (e), remove the words “Associate Director” wherever they appear, and add, in their place, the words “Assistant Administrator for the Disaster Assistance Directorate”.

§ 206.372 [Amended]

341. In § 206.372—

a. In paragraph (a), remove the words “Associate Director” and add, in their place, the words “Assistant Administrator for the Disaster Assistance Directorate”;

b. In paragraph (c), remove the words “Regional Director” and add, in their place, the words “Regional Administrator”; and remove the words “Associate Director” wherever they appear, and add, in their place, the words “Assistant Administrator for the Disaster Assistance Directorate”;

c. In paragraph (d), remove the words “Associate Director” and add, in their place, the words “Assistant Administrator for the Disaster Assistance Directorate”; and

d. In paragraph (e), remove the words “Regional Director” and add, in their place, the words “Regional Administrator”; and remove the words “Associate Director” and add, in their place, the words “Assistant Administrator for the Disaster Assistance Directorate”.

§ 206.374 [Amended]

342. In § 206.374—

a. In paragraph (a)(2), remove the words “Regional Director” and add, in their place, the words “Regional Administrator”; and

b. In paragraphs (b)(1) introductory text, (c)(1), (c)(2), (d)(2)(i), (d)(2)(ii) and (e), remove the words “Associate Director” wherever they appear, and add, in their place, the words “Assistant Administrator for the Disaster Assistance Directorate”.

§ 206.375 [Amended]

343. In § 206.375(b)(2), remove the words “Regional Director” and add, in their place, the words “Regional Administrator”; and remove the words “Associate Director” and add, in their place, the words “Assistant Administrator for the Disaster Assistance Directorate”.

§ 206.377 [Amended]

344. In § 206.377(b)(1), (b)(4), and (c) introductory text, remove the words “Associate Director” and add, in their place, the words “Assistant Administrator for the Disaster Assistance Directorate ”.

§ 206.390 [Amended]

345. In § 206.390, remove the words “Associate Director” and add, in their place, the words “Assistant Administrator for the Disaster Assistance Directorate”.

§ 206.391 [Amended]

346. In § 206.391, remove the words “Regional Director” and add, in their place, the words “Regional Administrator”; and remove the words “Associate Director” and add, in their place, the words “Assistant Administrator for the Disaster Assistance Directorate”.

§ 206.392 [Amended]

347. In § 206.392, remove the words “Regional Director” and add, in their place, the words “Regional Administrator”; and at the end of the section, remove the words “(Approved by the Office of Management and Budget under control number 3067-0066)”.

§ 206.393 [Amended]

348. In § 206.393, remove the words “Regional Director” wherever they appear, and add, in their place, the words “Regional Administrator”; and remove the words “Associate Director's” and add, in their place, the words “Assistant Administrator for the Disaster Assistance Directorate's”.

§ 206.394 [Amended]

349. In § 206.394—

a. In paragraph (b)(7), remove the words “Associate Director” and add, in their place, the words “Assistant Administrator for the Disaster Assistance Directorate”; and

b. In paragraphs (c)(2), remove the words “Regional Director” and add, in their place, the words “Regional Administrator”.

§ 206.395 [Amended]

350. In § 206.395(b) and (d), remove the words “Regional Director” and add, in their place, the words “Regional Administrator”.

§ 206.400 [Amended]

351. In § 206.400(c), remove the words “Regional Director” wherever they appear, and add, in their place, the words “Regional Administrator”.

§ 206.402 [Amended]

352. In § 206.402, remove the words “Regional Director” and add, in their place, the words “Regional Administrator”.

§ 206.432 [Amended]

353. In § 206.432(b)(3), remove the words “Regional Director's” and add, in their place, the words “Regional Administrator's”.

§ 206.434 [Amended]

354. In § 206.434—

a. In paragraph (b)(2), remove the words “Regional Directors” and add, in their place, the words “Regional Administrators”;

b. In (e) introductory text, remove the words “Regional Director” and add, in their place, the words “Regional Administrator”; and

c. In paragraph (e)(1)(ii)(C), remove the word “Director” and add, in its place, the word “Administrator”.

§ 206.436 [Amended]

355. In § 206.436(c) introductory text, (d), (e), (f), and (g), remove the words “Regional Director” wherever they appear, and add, in their place, the words “Regional Administrator”.

§ 206.437 [Amended]

356. In § 206.437—

a. Remove § 206.437(b)(4)(xii) and redesignate § 206.437(b)(4)(xiii) as § 206.437(b)(4)(xii), and redesignate § 206.437(b)(4)(xiv) as § 206.437(b)(4)(xiii);

b. In paragraph (b)(4)(xi), add the words “and audit” after the word “administrative”;

c. In redesignated paragraph (b)(4)(xii), remove the words “Regional Director”, and add, in their place, the words “Regional Administrator”;

d. In paragraph (d), remove the words “Regional Director” wherever they appear, and add, in their place, the words “Regional Administrator”; and

e. At the end of the section, remove the parenthetical which reads, “(Approved by the Office of Management and Budget under OMB control number 3067-0208)”.

§ 206.438 [Amended]

357. In § 206.438—

a. In paragraphs (b) and (d), remove the words “Regional Director” wherever they appear, and add, in their place, the words “Regional Administrator”; and

b. In paragraph (e), remove the number “14” and add, in its place, the number “13”.

§ 206.440 [Amended]

358. In § 206.440—

a. In paragraphs (a) and (b)(1), remove the words “Regional Director” wherever they appear, and add, in their place, the words “Regional Administrator”;

b. In paragraph (b)(2), remove the words “Associate Director/Executive Associate Director for Mitigation” and add, in their place, the words “Assistant Administrator for the Mitigation Directorate”; and remove the words “Regional Director's”, and add, in their place, the words “Regional Administrator's”;

c. In paragraph (c)(2), remove the words “Regional Director” and add, in their place, the words “Regional Administrator”;

d. In paragraphs (c)(3) and (d), remove the words “Regional Director” wherever they appear, and add, in their place, the words “Regional Administrator”; and remove the words “Associate Director/Executive Associate Director” wherever they appear, and add, in their place, the words “Assistant Administrator for the Mitigation Directorate”; and

e. In paragraph (e)(2), remove the words “Associate Director/Executive Associate Director” and add, in their place, the words “Assistant Administrator for the Mitigation Directorate”; and remove the word “Director” and add, in its place, the word “Administrator”.

PART 208—NATIONAL URBAN SEARCH AND RESCUE RESPONSE SYSTEM

359. The authority citation for part 208 continues to read as follows:

Authority: Robert T. Stafford Disaster Relief and Emergency Assistance Act, 42 U.S.C. 5121 through 5206; Reorganization Plan No. 3 of 1978, 43 FR 41943, 3 CFR, 1978 Comp., p. 329; Homeland Security Act of 2002, 6 U.S.C. 101; E.O. 12127, 44 FR 19367, 3 CFR, 1979 Comp., p. 376; E.O. 12148, 44 FR 43239, 3 CFR, 1979 Comp., p. 412; E.O. 13286, 68 FR 10619, 3 CFR, 2003 Comp., p. 166.

§ 208.2 [Amended]

360. In § 208.2(a), remove the definitions of “Deputy Director” and “Director” and add new definitions of “Deputy Assistant Administrator” and “Assistant Administrator” in alphabetical order to read as follows:

§ 208.2 Definitions of terms used in this part.

(a) * * *

Assistant Administrator means the Assistant Administrator for the Disaster Operations Directorate.

* * * * *

Deputy Assistant Administrator means the Deputy Assistant Administrator for the Disaster Operations Directorate, or other person the Assistant Administrator designates.

* * * * *

§ 208.3 [Amended]

361. In § 208.3(a), remove the word “Director” wherever it appears, and add, in its place, the word “Administrator”.

§ 208.5 [Amended]

362. In § 208.5—

a. Revise the section heading to read “Authority of the Assistant Administrator for the Disaster Operations Directorate”; and

b. In paragraphs (a) and (b), remove the word “Director” and add, in its place, the words “Assistant Administrator”.

§ 208.6 [Amended]

363. In § 208.6—

a. In paragraph (a), remove the word “Director” wherever it appears, and add, in its place, the words “Assistant Administrator”;

b. In paragraph (b), remove the words “Regional Director” and add, in their place, the words “Regional Administrator”; and remove the words “Regional Director's” and add, in their place, the words “Regional Administrator's”; remove the word “Director” and add, in its place, the words “Assistant Administrator”; and

c. In paragraph (c), remove the words “General Accounting Office” and add, in their place, the words “Government Accountability Office”.

§ 208.7 [Amended]

364. In § 208.7, remove the word “Director” wherever it appears, and add, in its place, the word “Assistant Administrator”.

§ 208.8 [Amended]

365. In § 208.8, remove the word “Director” and add, in its place, the word “Assistant Administrator”.

§ 208.11 [Amended]

366. In § 208.11, remove the word “Director” wherever it appears, and add, in its place, the word “Assistant Administrator”.

§ 208.22 [Amended]

367. In § 208.22(c)(2), (d), (e) and (f), remove the word “Director” wherever it appears, and add, in its place, the word “Assistant Administrator”.

§ 208.25 [Amended]

368. In § 208.25(a), remove the word “Director” and add, in its place, the word “Assistant Administrator”.

§ 208.37 [Amended]

369. In § 208.37(a), remove the word “Director” and add, in its place, the word “Assistant Administrator”.

§ 208.43 [Amended]

370. In § 208.43(c)(2), remove the word “Director” and add, in its place, the word “Assistant Administrator”.

§ 208.52 [Amended]

371. In § 208.52(a) and (b)(2), remove the word “Director” wherever it appears, and add, in its place, the word “Assistant Administrator”.

§ 208.62 [Amended]

372. In § 208.62(b)(1) and (b)(2), remove the words “Deputy Director” wherever they appear, and add, in their place, the words “Deputy Assistant Administrator”.

§ 208.64 [Amended]

373. In § 208.64(b), remove the words “General Accounting Office” and add, in their place, the words “Government Accountability Office”.

§ 208.66 [Amended]

374. In § 208.66(a)(3), remove the words “Deputy Director” and add, in their place, the words “Deputy Assistant Administrator”.

PART 209—SUPPLEMENTAL PROPERTY ACQUISITION AND ELEVATION ASSISTANCE

375. The authority citation for part 209 continues to read as follows:

Authority: Pub. L. 106-113, Div. B, sec. 1000(a)(5) (enacting H.R. 3425 by cross-reference), 113 Stat. 1501, 1536; Pub. L. 106-246, 114 Stat. 511, 568; Robert T. Stafford Disaster Relief and Emergency Assistance Act, 42 U.S.C. 5121; Reorganization Plan No. 3 of 1978, 43 FR 41943, 3 CFR, 1978 Comp., p. 329; E.O. 12127, 44 FR 19367, 3 CFR, 1979 Comp., p. 376; E.O. 12148, 44 FR 43239, 3 CFR, 1979 Comp., p. 412.

§ 209.3 [Amended]

376. In § 209.3(a), remove the words “Regional Directors” and add, in their place, the words “Regional Administrators”.

§ 209.7 [Amended]

377. At the end of § 209.7, remove the words “(Approved under OMB control number 3067-0212).”.

§ 209.8 [Amended]

378. In § 209.8—

a. In paragraphs (b), (c) introductory text and (c)(10), remove the words “Regional Director” wherever they appear, and add, in their place, the words “Regional Administrator”; and

b. At the end of the section, remove the words “(Approved under OMB control number 3067-0279).”

§ 209.9 [Amended]

379. In § 209.9, remove the words “Regional Director” wherever they appear, and add, in their place, the words “Regional Administrator”.

§ 209.10 [Amended]

380. In § 209.10—

a. In the introductory text, remove the words “Regional Director” and add, in their place, the words “Regional Administrator”;

b. In paragraph (a), remove the words “parts 13 and 14” and add, in their place, the words “part 13”;

c. In paragraph (i)(2)(C), remove the word “Director” and add, in its place, the words “Administrator of FEMA”; and

d. In paragraph (i)(5), remove the words “Regional Director” wherever they appear, and add, in their place, the words “Regional Administrator”.

§ 209.11 [Amended]

381. In § 209.11(f), remove the number “14” and add, in its place, the number “13”.

§ 209.12 [Amended]

382. In § 209.12(a), remove the words “Regional Directors” wherever they appear, and add, in their place, the words “Regional Administrators”.

PART 295—CERRO GRANDE FIRE ASSISTANCE

383. The authority citation for part 295 continues to read as follows:

Authority: Pub. L. 106-246, 114 Stat. 511, 584; Reorganization Plan No. 3 of 1978, 43 FR 41493, 3 CFR, 1978 Comp., p. 329; E.O. 12127, 44 FR 19367, 3 CFR, 1979 Comp., p. 376; E.O. 12148, 44 FR 43239, 3 CFR, 1979 Comp., p. 412.

§ 295.30 [Amended]

384. In § 295.30(a), remove the words “Office of the Inspector General” and add, in their place, the words “DHS Office of the Inspector General”; and remove the words “General Accounting Office” and add, in their place, the words “Government Accountability Office”.

§ 295.35 [Amended]

385. In § 295.35, remove the words “Office of the Inspector General” and add, in its place, the words “DHS Office of the Inspector General”.

§ 295.41 [Amended]

386. In § 295.41(h), remove the words “Director of FEMA” and add, in their place, the words “Administrator of FEMA”.

PART 300—DISASTER PREPAREDNESS ASSISTANCE

387. The authority citation for part 300 continues to read as follows:

Authority: 42 U.S.C. 5121 et seq.; Reorganization Plan No. 3 of 1978; E.O. 12148.

§ 300.3 [Amended]

388. In § 300.3(a) and (c), remove the words “Regional Director” wherever they appear, and add, in their place, the words “Regional Administrator”.

PART 302—CIVIL DEFENSE-STATE AND LOCAL EMERGENCY MANAGEMENT ASSISTANCE PROGRAM (EMA)

389. The authority citation for part 302 continues to read as follows:

Authority: 50 U.S.C. app. 2251 et seq.; Reorganization Plan No. 3 of 1978; E.O. 12148.

§ 302.2 [Amended]

390. In § 302.2—

a. In paragraph (h), remove the word “Director” wherever it appears, and add, in its place, the word “Administrator”;

b. In paragraphs (m), (s), and (v), remove the words “Regional Director” and add, in their place, the words “Regional Administrator”; and

c. In paragraph (u), remove the words “(OMB 3067-0138)”.

§ 302.3 [Amended]

391. In § 302.3—

a. In the introductory text and paragraph (a) introductory text, remove the words “Regional Director” wherever they appear, and add, in their place, the words “Regional Administrator”;

b. In paragraphs (a)(1), (a)(3), (a)(7) and (a)(8), remove the word “Director” wherever it appears, and add, in its place, the word “Administrator”;

c. In paragraphs (a)(16), (b)(1), (c) introductory text, (d) and (f), remove the words “Regional Director” wherever they appear, and add, in their place, the words “Regional Administrator”;

d. In paragraph (g)(1), remove the words “Regional Director” wherever they appear, and add, in their place, the words “Regional Administrator”; remove the words “Regional Director's” and add, in their place, the words “Regional Administrator's”; remove the words “Associate Director, State and Local Programs and Support (FEMA)” and add, in their place, the words “Deputy Administrator for the National Preparedness Directorate”; and remove the word “Director” and add, in its place, the word “Administrator”;

e. In paragraph (g)(2), remove the words “Regional Director” wherever they appear, and add, in their place, the words “Regional Administrator”; remove the words “Regional Director's” and add, in their place, the words “Regional Administrator's”; and remove the words “Associate Director, State and Local Programs and Support” and add, in their place, the words “Deputy Administrator for National Preparedness Directorate”;

f. In paragraph (g)(3), remove the word “Director”, and add, in its place, the word “Administrator”; and remove the word “Director's” and add, in its place, the word “Administrator's”; and

g. At the end of the section, remove the words “(Approved by the Office of Management and Budget under control number 3067-0138)”.

§ 302.5 [Amended]

392. In § 302.5—

a. In paragraphs (a) and (b)(4), remove the word “Director” wherever it appears, and add, in its place, the word “Administrator”;

b. In paragraph (c), remove the words “Regional Director” and add, in their place, the words “Regional Administrator”;

c. In paragraphs (e) introductory text and (f), remove the words “Regional Directors” and add, in their place, the words “Regional Administrators”; and remove the word “Director” wherever it appears, and add, in its place, the word “Administrator”;

d. In paragraph (g), remove the words “Regional Director” and add, in their place, the words “Regional Administrator”;

e. In paragraph (h), remove the word “Director” and add, in its place, the word “Administrator”;

f. In paragraph (i), remove the words “Regional Director” and add, in their place, the words “Regional Administrator”; and remove the word “Director's” and add, in its place, the word “Administrator's”;

g. In paragraphs (j), (k), and (l), remove the words “Regional Director” wherever they appear, and add, in their place, the words “Regional Administrator”; and

h. In paragraph (o), remove the word “Director” wherever it appears, and add, in its place, the word “Administrator”.

§ 302.7 [Amended]

393. In § 302.7(a), remove the word “Director” and add, in its place, the word “Administrator”.

§ 302.8 [Amended]

394. In § 302.8, remove the word “Director” wherever it appears, and add, in its place, the word “Administrator”.

PART 304—CONSOLIDATED GRANTS TO INSULAR AREAS

395. The authority citation for part 304 continues to read as follows:

Authority: 50 U.S.C. app. 2251 et seq.; Reorganization Plan No. 3 of 1978; E.O. 12148.

§ 304.4 [Amended]

396. In § 304.4, remove the word “Director” wherever it appears, and add, in its place, the word “Administrator”.

§ 304.5 [Amended]

397. In § 304.5(b), remove the word “Director”, and add, in its place, the word “Administrator”.

PART 312—USE OF CIVIL DEFENSE PERSONNEL, MATERIALS, AND FACILITIES FOR NATURAL DISASTER PURPOSES

398. The authority citation for part 312 continues to read as follows:

Authority: Sec. 803(a)(3) Pub. L. 97-86; sec. 401, Federal Civil Defense Act of 1950, as amended, 50 U.S.C. app. 2253; Reorganization Plan No. 3 of 1978; 3 CFR, 1978 Comp., p. 329; and E.O. 12148 of July 20, 1979, 44 FR 43239.

§ 312.4 [Amended]

399. In § 312.4(a), remove the word “Director” and add, in its place, the word “Administrator”.

§ 312.5 [Amended]

400. In § 312.5(c), remove the words “Regional Director” wherever they appear, and add, in their place, the words “Regional Administrator”.

PART 321—MAINTENANCE OF THE MOBILIZATION BASE (DEPARTMENT OF DEFENSE, DEPARTMENT OF ENERGY, MARITIME ADMINISTRATION)

401. The authority citation for part 321 continues to read as follows:

Authority: National Security Act of 1947, as amended 50 U.S.C. 404; Defense Production Act of 1950, as amended; 50 U.S.C. app. 2061 et seq.; Reorganization Plan No. 3 of 1978, 3 CFR, 1978 Comp., p. 329; E.O. 12148 (44 FR 43239).

§ 321.8 [Amended]

401. In § 321.8, remove the word “Director” and add, in its place, the word “Administrator”.

PART 327—POLICY ON USE OF GOVERNMENT-OWNED INDUSTRIAL PLANT EQUIPMENT BY PRIVATE INDUSTRY (DMO-10A)

403. The authority citation for part 327 continues to read as follows:

Authority: National Security Act of 1947, as amended, 50 U.S.C. 404; Defense Production Act of 1950, as amended, 50 U.S.C. app. 2061 et seq.; Reorganization Plan No. 3 of 1978, 3 CFR, 1978 Comp., p. 329; E.O. 12148 of July 20, 1979, 44 FR 43239.

§ 327.4 [Amended]

404. In § 327.4, remove the word “Director” and add, in its place, the word “Administrator”.

§ 327.5 [Amended]

405. In § 327.5, remove the word “Director” and add, in its place, the word “Administrator”.

PART 330—POLICY GUIDANCE AND DELEGATION OF AUTHORITIES FOR USE OF PRIORITIES AND ALLOCATIONS TO MAXIMIZE DOMESTIC ENERGY SUPPLIES IN ACCORDANCE WITH SUBSECTION 101(C) OF THE DEFENSE PRODUCTION ACT OF 1950, AS AMENDED (DMO-13)

406. The authority citation for part 330 continues to read as follows:

Authority: Defense Production Act of 1950, as amended, including amendment to sec. 101(c) by sec. 104 of the Energy Policy and Conservation Act (Pub. L. 94-163) 50 U.S.C. app. 2061 et seq.; Reorganization Plan No. 3 of 1978, 3 CFR, 1978 Comp., p. 329; E.O. 12148 of July 20, 1979, 44 FR 43239; E.O. 11912 of April 13, 1976.

§ 330.2 [Amended]

407. In § 330.2(b), remove the word “Director” and add, in its place, the word “Administrator”.

§ 330.3 [Amended]

408. In § 330.3(a) introductory text, (b), (c) and (d), remove the word “Director” wherever it appears, and add, in its place, the word “Administrator”.

PART 331—PRESERVATION OF THE MOBILIZATION BASE THROUGH THE PLACEMENT OF PROCUREMENT AND FACILITIES IN LABOR SURPLUS AREAS

409. The authority citation for part 331 continues to read as follows:

Authority: Reorganization Plan No. 3 of 1978, E.O. 10480, as amended, E.O. 12148.

§ 331.4 [Amended]

410. In § 331.4, remove the word “Director” and add, in its place, the word “Administrator”.

PART 332—VOLUNTARY AGREEMENTS UNDER SECTION 708 OF THE DEFENSE PRODUCTION ACT OF 1950, AS AMENDED

411. The authority citation for part 332 continues to read as follows:

Authority: Sec. 708, Defense Production Act of 1950, as amended (50 U.S.C. app. 2158); E.O. 10480, 3 CFR, 1949-1953 Comp., p. 961, as amended; E.O. 12148, 44 FR 43239.

§ 332.1 [Amended]

412. In § 332.1(b)(2) and (b)(3), remove the word “Director” wherever it appears, and add, in its place, the word “Administrator”.

§ 332.2 [Amended]

413. In § 332.2(b)(1), (c)(1), (d)(1) and (e)(2), remove the word “Director” wherever it appears and add, in its place, the word “Administrator”.

§ 332.3 [Amended]

414. In § 332.3(c)(2), (c)(4), (c)(5) and (d)(1), remove the word “Director” wherever it appears and add, in its place, the word “Administrator”.

§ 332.4 [Amended]

415. In § 332.4, remove the word “Director” and add, in its place, the word “Administrator”.

PART 334—GRADUATED MOBILIZATION RESPONSE

416. The authority citation for part 334 continues to read as follows:

Authority: National Security Act of 1947, as amended, 50 U.S.C. 404; Defense Production Act of 1950, as amended, 50 U.S.C. app. 2061 et seq.; E.O. 12148 of July 20, 1979, 3 CFR, 1979 Comp., p. 412; E.O. 10480 of Aug. 14, 1953, 3 CFR, 1949-53 Comp., p. 962; E.O. 12472 of Apr. 3, 1984; 3 CFR, 1984 Comp., p. 193; E.O. 12656 of Nov. 18, 1988, 53 FR 47491.

§ 334.7 [Amended]

417. In § 334.7, remove the word “Director” wherever it appears, and add, in its place, the word “Administrator”.

PART 350—REVIEW AND APPROVAL OF STATE AND LOCAL RADIOLOGICAL EMERGENCY PLANS AND PREPAREDNESS

418. The authority citation for part 350 continues to read as follows:

Authority: 42 U.S.C. 5131, 5201, 50 U.S.C. app. 2253(g); Sec. 109 Pub. L. 96-295; Reorganization Plan No. 3 of 1978; E.O. 12127; E.O. 12148.

§ 350.2 [Amended]

419. In § 350.2—

a. In paragraph (a), remove the word “Director” wherever it appears, and add, in its place, the word “Administrator”;

b. In paragraph (b), remove the words “Regional Director” wherever they appear, and add, in their place, the words “Regional Administrator”; and

c. In paragraph (c), remove the words “Associate Director” wherever they appear, and add, in their place, the words, “Deputy Administrator”; remove the words “State and Local Programs and Support” and add, in their place, the words “National Preparedness Directorate”.

§ 350.3 [Amended]

420. In § 350.3(a) and (b), remove the word “Director” wherever it appears, and add, in its place, the word “Administrator”.

§ 350.7 [Amended]

421. In § 350.7(a), remove the words “Regional Director” and add, in their place, the words “Regional Administrator”.

§ 350.8 [Amended]

422. In § 350.8—

a. In paragraphs (a), (b), (c), and (d), remove the words “Regional Director” wherever they appear, and add, in their place, the words “Regional Administrator”;

b. In paragraph (e), remove the words “Regional Director” and add, in their place, the words “Regional Administrator”; and remove the words “Associate Director of FEMA” and add, in their place, the words “Deputy Administrator for the National Preparedness Directorate”; and

c. In paragraph (f), remove the words “Associate Director” and add, in their place, the words “Deputy Administrator for the National Preparedness Directorate”.

§ 350.9 [Amended]

423. In § 350.9—

a. In paragraph (a), remove the words “Regional Director” wherever they appear, and add, in their place, the words “Regional Administrator”; and remove the words “Associate Director” and add, in their place, the words “Deputy Administrator for the National Preparedness Directorate”;

b. In paragraphs (b), (c) introductory text, and (c)(3), remove the words “Regional Director” and add, in their place, the words “Regional Administrator”; and remove the words “Associate Director” and add, in their place, the words “Deputy Administrator for the National Preparedness Directorate”;

c. In paragraph (c)(5), remove the words “Regional Director” and add, in their place, the words “Regional Administrator”;

d. In paragraph (d), remove the words “Regional Director” wherever they appear, and add, in their place, the words “Regional Administrator”; and remove the words “Associate Director” and add, in their place, the words “Deputy Administrator for the National Preparedness Directorate”; and

e. In paragraph (e), remove the words “Regional Director” wherever they appear, and add, in their place, the words “Regional Administrator”.

§ 350.10 [Amended]

424. In § 350.10—

a. In paragraph (a) introductory text, remove the words “Regional Director” wherever they appear, and add, in their place, the words “Regional Administrator”; and remove the words “Associate Director” and add, in their place, the words “Deputy Administrator for the National Preparedness Directorate”; and

b. In paragraph (b), remove the words “Regional Director” wherever they appear, and add, in their place, the words “Regional Administrator”.

§ 350.11 [Amended]

425. In § 350.11—

a. In the section heading, remove the words “Regional Director” and add, in their place, the words “Regional Administrator”;

b. In paragraph (a), remove the words “Regional Director” and add, in their place, the words “Regional Administrator”; and remove the words “Associate Director” and add, in their place, the words “Deputy Administrator for the National Preparedness Directorate”;

c. In paragraph (b), remove the words “Regional Director” wherever they appear and add, in their place, the words “Regional Administrator”; and

d. In paragraph (c), remove the words “Regional Director” and add, in their place, the words “Regional Administrator”; and remove the words “Associate Director” and add, in their place, the words “Deputy Administrator for the National Preparedness Directorate”.

§ 350.12 [Amended]

426. In § 350.12—

a. In paragraph (a), remove the words “Regional Director” and add, in their place, the words “Regional Administrator”; remove the words “Regional Director's” and add, in their place, the words “Regional Administrator's”; and remove the words “Associate Director” wherever they appear, and add, in their place, the words “Deputy Administrator for the National Preparedness Directorate”;

b. In paragraph (b) introductory text, remove the words “Regional Director's” and add, in their place, the words “Regional Administrator's”; and remove the words “Associate Director” and add, in their place, the words “Deputy Administrator for the National Preparedness Directorate”;

c. In paragraphs (b)(2) and (c), remove the words “Associate Director” wherever they appear, and add, in their place, the words “Deputy Administrator for the National Preparedness Directorate”; and remove the words “Regional Director(s)” wherever they appear, and add, in their place, the words “Regional Administrator(s)”; and

d. In paragraph (e), remove the words “Associate Director” and add, in their place, the words “Deputy Administrator for the National Preparedness Directorate”; remove the words “Associate Director's” and add, in their place, the words “Deputy Administrator for the National Preparedness Directorate's”; and remove the word “Director” and add, in its place, the word “Administrator”.

§ 350.13 [Amended]

427. In § 350.13—

a. In paragraph (a) introductory text, remove the words “Regional Director” and add, in their place, the words “Regional Administrator”; and remove the words “Associate Director”, and add, in their place, the words “Deputy Administrator for the National Preparedness Directorate”;

b. In paragraph (a)(1), remove the words “Associate Director” wherever they appear, and add, in their place, the words “Deputy Administrator for the National Preparedness Directorate”;

c. In paragraph (b), remove the words “Associate Director” wherever they appear, and add, in their place, the words “Deputy Administrator for the National Preparedness Directorate”; and remove the word “Regional Directors(s)” and add, in their place, the words “Regional Administrator(s)”; and

d. In paragraph (c), remove the words “Associate Director to the Director” and add, in their place, the words “Deputy Administrator for the National Preparedness Directorate to the Administrator”; and remove the words “Associate Director's” wherever they appear, and add, in their place, the words “Deputy Administrator for the National Preparedness Directorate's”.

§ 350.14 [Amended]

428. In § 350.14—

a. In paragraph (b) introductory text, remove the words “Associate Director” and add, in their place, the words “Deputy Administrator for the National Preparedness Directorate”; and

b. In paragraphs (c) and (d), remove the words “Regional Director” wherever they appear, and add, in their place, the words “Regional Administrator”.

§ 350.15 [Amended]

429. In § 350.15—

a. In paragraph (a), remove the word “Director” wherever it appears, and add, in its place, the word “Administrator”;

b. In paragraph (b), remove the words “Associate Director, State and Local Programs and Support” and add, in its place, the words “Deputy Administrator for the National Preparedness Directorate”; and remove the words “Regional Director” and add, in their place, the words “Regional Administrator”; remove the word “Director” wherever it appears, and add, in its place, the word “Administrator”; remove the word “Director's” wherever it appears, and add, in its place, the word “Administrator's”; and

c. In paragraph (c), remove the word “Director” and add, in its place, the word “Administrator”; and remove the word “Director's” and add, in its place, the word “Administrator's”.

PART 352—COMMERCIAL NUCLEAR POWER PLANTS: EMERGENCY PREPAREDNESS PLANNING

430. The authority citation for part 352 continues to read as follows:

Authority: Federal Civil Defense Act of 1950, as amended (50 U.S.C. app. 2251 et seq.) Robert T. Stafford Disaster Relief and Emergency Assistance Act, 42 U.S.C. 5121 et seq.; 31 U.S.C. 9701; Executive Order 12657; Executive Order 12148; Executive Order 12127 and Executive Order 12241.

§ 352.1 [Amended]

431. In § 352.1—

a. In paragraph (a), remove the words “Associate Director” wherever they appear, and add, in their place, the words, “Deputy Administrator”; and remove the words “State and Local Programs and Support” and add, in their place, the words “National Preparedness Directorate”;

b. In paragraph (b), remove the word “Director” wherever it appears, and add, in its place, the word “Administrator”; and

c. In paragraph (f), remove the words “Regional Director” wherever they appear, and add, in their place, the words “Regional Administrator”.

§ 352.4 [Amended]

432. In § 352.4—

a. In paragraph (a), remove the words “Region Director” and add, in their place, the words “Regional Administrator”; and

b. At the end of the section, remove the words “(Approved by the Office of Management and Budget (OMB) under control number 3067-0201)”.

§ 352.5 [Amended]

433. In § 352.5—

a. In paragraphs (a), (b), and (d), remove the words “Regional Director” wherever they appear, and add, in their place, the words “Regional Administrator”;

b. In paragraphs (e) and (f), remove the words “Associate Director” wherever they appear, and add, in their place, the words “Deputy Administrator for the National Preparedness Directorate”; and

c. In paragraph (g), remove the words “Regional Director” and add, in their place, the words “Regional Administrator”; and remove the words “Associate Director” and add, in their place, the words “Deputy Administrator for the National Preparedness Directorate”.

§ 352.6 [Amended]

434. In § 352.6—

a. In paragraph (b), remove the words “Regional Director” and add, in their place, the words “Regional Administrator”; and remove the words “Associate Director” wherever they appear, and add, in their place, the words, “Deputy Administrator for the National Preparedness Directorate”; and

b. In paragraph (d), remove the words “Associate Director” and add, in their place, the words, “Deputy Administrator for the National Preparedness Directorate”.

§ 352.24 [Amended]

435. At the end of § 352.24, remove the words “(Approval by the OMB under control number 3067-0201)”.

§ 352.29 [Amended]

436. In § 352.29—

a. In paragraph (a), remove the words “Associate Director” and add, in their place, the words, “Deputy Administrator for the National Preparedness Directorate”; and remove the word “Director” wherever it appears, and add, in its place, the word “Administrator”; and

b. In paragraph (b), remove the word “Director” and add, in its place, the word “Administrator”.

PART 354—FEE FOR SERVICES TO SUPPORT FEMA'S OFFSITE RADIOLOGICAL EMERGENCY PREPAREDNESS PROGRAM

437. The authority citation for part 354 continues to read as follows:

Authority: Reorganization Plan No. 3 of 1978, 43 FR 41943, 3 CFR, 1978 Comp., p. 329; Sec. 109, Pub. L. 96-295, 94 Stat. 780; Sec. 2901, Pub. L. 98-369, 98 Stat. 494; Title III, Pub. L. 103-327, 108 Stat. 2323-2325; Pub. L. 105-276, 112 Stat. 2502; EO 12148, 44 FR 43239, 3 CFR, 1979 Comp., p. 412; EO 12657, 53 FR 47513, 3 CFR, 1988 Comp., p. 611.

§ 354.1 [Amended]

438. In § 354.1, in the third sentence, remove the word “Director” and add, in its place, the word “Administrator”.

PART 360—STATE ASSISTANCE PROGRAMS FOR TRAINING AND EDUCATION IN COMPREHENSIVE EMERGENCY MANAGEMENT

439. The authority citation for part 360 continues to read as follows:

Authority: Reorganization Plan No. 3 (3 CFR, 1978 Comp., p. 329); E.O. 12127 (44 FR 19367); E.O. 12148 (44 FR 43239).

§ 360.4 [Amended]

440. In § 360.4(c)(1), (c)(2) and (d), remove the words “Regional Director” wherever they appear, and add, in their place, the words “Regional Administrator”.

PART 361—NATIONAL EARTHQUAKE HAZARDS REDUCTION ASSISTANCE TO STATE AND LOCAL GOVERNMENTS

441. The authority citation for part 361 continues to read as follows:

Authority: Reorganization Plan No. 3 of 1978, 43 FR 41943, 3 CFR, 1978 Comp., p. 329; Earthquake Hazards Reduction Act of 1977, as amended, 42 U.S.C. 7701 et seq.; E.O. 12148, 44 FR 43239, 3 CFR, 1979 Comp., p. 412; and E.O. 12381, 47 FR 39795, 3 CFR, 1982 Comp., p. 207.

§ 361.5 [Amended]

442. In § 361.5(a)(3)(i), (a)(3)(ii), and (a)(3)(iii), remove the words “Regional Director” and add, in their place, the words “Regional Administrator”.

PART 362—CRITERIA FOR ACCEPTANCE OF GIFTS, BEQUESTS, OR SERVICES

443. The authority citation for part 362 continues to read as follows:

Authority: 42 U.S.C. 7701, 7705c.

§ 362.1 [Amended]

444. In § 362.1, remove the word “Director” and add, in its place, the word “Administrator”.

§ 362.3 [Amended]

445. In § 362.3—

a. In the introductory text and paragraphs (b) and (c), remove the word “Director” wherever it appears, and add, in its place, the word “Administrator”; and

b. In paragraph (e), remove the words “General Counsel” and add, in their place, the words “Chief Counsel”.

Dated: March 19, 2009.
David Garratt,
Acting Deputy Administrator, Federal Emergency Management Agency, Department of Homeland Security.

[FR Doc. E9-6920 Filed 4-2-09; 8:45 am]

BILLING CODE 9110-23-P